DEPARTMENT OF THE INTERIOR

Fish and Wildlife Service

50 CFR Part 20

[Docket No. FWS-R9-MB-2011-0014; 91200-1231-9BPP-L2]

RIN 1018-AX34

Migratory Bird Hunting; Proposed Migratory Bird Hunting Regulations on Certain Federal Indian Reservations and Ceded Lands for the 2011-12 Season

AGENCY: Fish and Wildlife Service, Interior.

ACTION: Proposed rule.

SUMMARY: The U.S. Fish and Wildlife Service (hereinafter, Service or we) proposes special migratory bird hunting regulations for certain Tribes on Federal Indian reservations, off-reservation trust lands, and ceded lands for the 2011-12 migratory bird hunting season. This proposed rule responds to Tribal requests for Service recognition of Tribal authority to regulate hunting under established guidelines. This proposed rule would allow the establishment of season bag limits and, thus, harvest, at levels compatible with populations and habitat conditions.

DATES: We will accept all comments on the proposed regulations that are postmarked or received in our office by August 18, 2011.

ADDRESSES: You may submit comments on the proposals by one of the following methods:

• Federal eRulemaking Portal: http://www.regulations.gov. Follow the instructions for submitting comments on Docket No. FWS-R9-MB-2011-0014.

• U.S. mail or hand-delivery: Public Comments Processing, Attn: FWS-R9-MB-2011-0014; Division of Policy and Directives Management; U.S. Fish and Wildlife Service; 4401 N. Fairfax Drive, MS 2042-PDM; Arlington, VA 22203.

We will not accept e-mailed or faxed comments. We will post all comments on http://www.regulations.gov. This generally means that we will post any personal information you provide us (see the Public Comments section below for more information).

FOR FURTHER INFORMATION CONTACT: Ron W. Kokel, at: Division of Migratory Bird Management, U.S. Fish and Wildlife Service, Department of the Interior, MS MBSP-4107-ARLSQ, 1849 C Street, NW., Washington, DC 20240; (703) 358-1714.

SUPPLEMENTARY INFORMATION: In the April 8, 2011, Federal Register (76 FR 19376), we requested proposals from Indian Tribes wishing to establish special migratory bird hunting regulations for the 2011-12 hunting season, under the guidelines described in the June 4, 1985, Federal Register (50 FR 23467). In this supplemental proposed rule, we propose special migratory bird hunting regulations for 30 Indian Tribes, based on the input we received in response to the April 8, 2011, proposed rule, and our previous rules. As described in that proposed rule, the promulgation of annual migratory bird hunting regulations involves a series of rulemaking actions each year. This proposed rule is part of that series.

We developed the guidelines for establishing special migratory bird hunting regulations for Indian Tribes in response to tribal requests for recognition of their reserved hunting rights and, for some Tribes, recognition of their authority to regulate hunting by both tribal and nontribal hunters on their reservations. The guidelines include possibilities for:

(1) On-reservation hunting by both tribal and nontribal hunters, with hunting by nontribal hunters on some reservations to take place within Federal frameworks but on dates different from those selected by the surrounding State(s);

(2) On-reservation hunting by tribal members only, outside of the usual Federal frameworks for season dates and length, and for daily bag and possession limits; and

(3) Off-reservation hunting by tribal members on ceded lands, outside of usual framework dates and season length, with some added flexibility in daily bag and possession limits.

In all cases, the regulations established under the guidelines must be consistent with the March 10 to September 1 closed season mandated by the 1916 Convention between the United States and Great Britain (for Canada) for the Protection of Migratory Birds (Treaty). The guidelines apply to those Tribes having recognized reserved hunting rights on Federal Indian reservations (including off-reservation trust lands) and on ceded lands. They also apply to establishing migratory bird hunting regulations for nontribal hunters on all lands within the exterior boundaries of reservations where Tribes have full wildlife management authority over such hunting or where the Tribes and affected States otherwise have reached agreement over hunting by nontribal hunters on lands owned by non-Indians within the reservation.

Tribes usually have the authority to regulate migratory bird hunting by nonmembers on Indian-owned reservation lands, subject to Service approval. The question of jurisdiction is more complex on reservations that include lands owned by non-Indians, especially when the surrounding States have established or intend to establish regulations governing hunting by non-Indians on these lands. In such cases, we encourage the Tribes and States to reach agreement on regulations that would apply throughout the reservations. When appropriate, we will consult with a Tribe and State with the aim of facilitating an accord. We also will consult jointly with tribal and State officials in the affected States where Tribes wish to establish special hunting regulations for tribal members on ceded lands. Because of past questions regarding interpretation of what events trigger the consultation process, as well as who initiates it, we provide the following clarification. We routinely provide copies of Federal Register publications pertaining to migratory bird management to all State Directors, Tribes, and other interested parties. It is the responsibility of the States, Tribes, and others to notify us of any concern regarding any feature(s) of any regulations. When we receive such notification, we will initiate consultation.

Our guidelines provide for the continued harvest of waterfowl and other migratory game birds by tribal members on reservations where such harvest has been a customary practice. We do not oppose this harvest, provided it does not take place during the closed season defined by the Treaty, and does not adversely affect the status of the migratory bird resource. Before developing the guidelines, we reviewed available information on the current status of migratory bird populations, reviewed the current status of migratory bird hunting on Federal Indian reservations, and evaluated the potential impact of such guidelines on migratory birds. We concluded that the impact of migratory bird harvest by tribal members hunting on their reservations is minimal.

One area of interest in Indian migratory bird hunting regulations relates to hunting seasons for nontribal hunters on dates that are within Federal frameworks, but which are different from those established by the State(s) where the reservation is located. A large influx of nontribal hunters onto a reservation at a time when the season is closed in the surrounding State(s) could result in adverse population impacts on one or more migratory bird species. The guidelines make this unlikely, however, because tribal proposals must include:

(a) Harvest anticipated under the requested regulations;

(b) Methods that will be employed to measure or monitor harvest (such as bag checks, mail questionnaires, etc.);

(c) Steps that will be taken to limit level of harvest, where it could be shown that failure to limit such harvest would adversely impact the migratory bird resource; and

(d) Tribal capabilities to establish and enforce migratory bird hunting regulations.

We may modify regulations or establish experimental special hunts, after evaluation and confirmation of harvest information obtained by the Tribes.

We believe the guidelines provide appropriate opportunity to accommodate the reserved hunting rights and management authority of Indian Tribes while ensuring that the migratory bird resource receives necessary protection. The conservation of this important international resource is paramount. The guidelines should not be viewed as inflexible. In this regard, we note that they have been employed successfully since 1985. We believe they have been tested adequately and, therefore, we made them final beginning with the 1988-89 hunting season. We should stress here, however, that use of the guidelines is not mandatory and no action is required if a Tribe wishes to observe the hunting regulations established by the State(s) in which the reservation is located.

Service Migratory Bird Regulations Committee Meetings

Participants at the June 22-23, 2011, meetings reviewed information on the current status of migratory shore and upland game birds and developed 2011-12 migratory game bird regulations recommendations for these species plus regulations for migratory game birds in Alaska, Puerto Rico, and the U.S. Virgin Islands; special September waterfowl seasons in designated States; special sea duck seasons in the Atlantic Flyway; and extended falconry seasons. In addition, we reviewed and discussed preliminary information on the status of waterfowl.

Participants at the previously announced July 27-28, 2011, meetings will review information on the current status of waterfowl and develop recommendations for the 2011-12 regulations pertaining to regular waterfowl seasons and other species and seasons not previously discussed at the early-season meetings. In accordance with Department of the Interior policy, these meetings are open to public observation and you may submit comments on the matters discussed.

Population Status and Harvest

The following paragraphs provide preliminary information on the status of waterfowl and information on the status and harvest of migratory shore and upland game birds excerpted from various reports. For more detailed information on methodologies and results, you may obtain complete copies of the various reports at the address indicated under FOR FURTHER INFORMATION CONTACT or from our Web site at http://www.fws.gov/migratorybirds/NewsPublicationsReports.html.

Waterfowl Breeding and Habitat Survey

Federal, provincial, and State agencies conduct surveys each spring to estimate the size of breeding populations and to evaluate the conditions of the habitats. These surveys are conducted using fixed-wing aircraft, helicopters, and ground crews and encompass principal breeding areas of North America, covering an area over 2.0 million square miles. The traditional survey area comprises Alaska, Canada, and the north-central United States, and includes approximately 1.3 million square miles. The eastern survey area includes parts of Ontario, Quebec, Labrador, Newfoundland, Nova Scotia, Prince Edward Island, New Brunswick, New York, and Maine, an area of approximately 0.7 million square miles.

Overall, habitat conditions during the 2011 Waterfowl Breeding Population and Habitat Survey were characterized by average to above-average moisture and a normal winter and spring across the entire traditional and eastern survey areas. The exception was a portion of the west-central traditional survey area that had received below-average moisture. The total pond estimate (Prairie Canada and United States combined) was 8.1 ± 0.2 million. This was 22 percent above the 2010 estimate of 6.7 ± 0.2 million ponds, and 62 percent above the long-term average of 5.0 ± 0.03 million ponds.

Traditional Survey Area (U.S. and Canadian Prairies and Parklands)

Conditions across the Canadian Prairies were greatly improved relative to last year. Building on excellent conditions from 2010 in portions of southern Alberta, Saskatchewan, and Manitoba, the area of excellent conditions in the prairies expanded in 2011, including a region along the Alberta and Saskatchewan border that had been poor for the last 2 years. The 2011 estimate of ponds in Prairie Canada was 4.9 ± 0.2 million. This was 31 percent above last year's estimate (3.7 ± 0.2 million) and 43 percent above the 1955-2010 average (3.4 ± 0.03 million). As expected, residual water from summer 2010 precipitation remained in the Parklands and the majority of the area was classified as good. Fair to poor conditions, however, were observed in the Parklands of Alberta.

Wetland numbers and conditions were excellent in the U.S. prairies. The 2011 pond estimate for the north-central United States was 3.2 ± 0.1 million, which was similar to last year's estimate (2.9 ± 0.1 million) and 102 percent above the 1974-2010 average (1.6 ± 0.02 million). The eastern U.S. prairies benefitted from abundant moisture in 2010, and the entire U.S. prairies experienced above-average winter and spring precipitation in 2010 and 2011, resulting in good to excellent conditions across nearly the entire region. The western Dakotas and eastern Montana, which were extremely dry in 2010, improved from fair to poor in 2010 to good to excellent in 2011. Further, the abundant moisture and delayed farming operations in the north-central U.S. and southern Canadian prairies likely benefitted early-nesting waterfowl species.

Bush (Alaska, Northern Manitoba, Northern Saskatchewan, Northwest Territories, Yukon Territory, Western Ontario)

In the bush regions of the traditional survey area (Northwest Territories, northern Manitoba, northern Saskatchewan, and western Ontario), spring breakup was late in 2011. However, a period of warm, fair weather just prior to the survey, greatly accelerated ice-out. Habitats improved from 2010 across most of northern Saskatchewan and Manitoba as a result of average to above-average summer and fall precipitation in 2010. Habitat conditions in the Northwest Territories and Alaska were classified as good in 2011. Dry conditions in the boreal forest of Alberta in 2010 persisted into 2011 as habitat conditions were again rated as fair to poor. The dry conditions in this region contributed to numerous forest fires during the 2011 survey.

Eastern Survey Area

In the eastern survey area, winter temperatures were above average and precipitation was below average over most of the region, with the exception of the Maritimes and Maine, which had colder than normal temperatures and above-average precipitation. Despite regional differences in winter conditions, above-average spring precipitation recharged deficient wetlands, subsequently providing good to excellent production habitat across the region. The boreal forest and Canadian Maritimes of the eastern survey area continued to have good to excellent habitat conditions in 2011. Habitat conditions in Ontario and southern Quebec improved from poor to fair in 2010 to good to excellent in 2011. Northern sections of the eastern survey area continued to remain in good to excellent conditions in 2011.

Status of Teal

The estimate of blue-winged teal from the traditional survey area is 8.9 million. This record-high count represents a 41.0 percent increase from 2010, and is 91 percent above the 1955-2010 average.

Sandhill Cranes

Compared to increases recorded in the 1970s, annual indices to abundance of the Mid-Continent Population (MCP) of sandhill cranes have been relatively stable since the early 1980s. The spring 2011 index for sandhill cranes in the Central Platte River Valley, Nebraska, uncorrected for visibility bias, was 363,356 birds. The photo-corrected, 3-year average for 2008-10 was 600,892, which is above the established population-objective range of 349,000-472,000 cranes.

All Central Flyway States, except Nebraska, allowed crane hunting in portions of their States during 2010-11. An estimated 8,738 hunters participated in these seasons, which was 10 percent higher than the number that participated in the previous season. Hunters harvested 18,727 MCP cranes in the U.S. portion of the Central Flyway during the 2010-11 seasons, which was 23 percent higher than the estimated harvest for the previous year and 29 percent higher than the long-term average. The retrieved harvest of MCP cranes in hunt areas outside of the Central Flyway (Arizona, Pacific Flyway portion of New Mexico, Minnesota, Alaska, Canada, and Mexico combined) was 15,025 during 2010-11. The preliminary estimate for the North American MCP sport harvest, including crippling losses, was 38,561 birds, which was a 51 percent increase from the previous year's estimate. The long-term (1982-2008) trends for the MCP indicate that harvest has been increasing at a higher rate than population growth.

The fall 2010 pre-migration survey for the Rocky Mountain Population (RMP) resulted in a count of 21,064 cranes. The 3-year average was 20,847 sandhill cranes, which is within the established population objective of 17,000-21,000 for the RMP. Hunting seasons during 2010-11 in portions of Arizona, Idaho, Montana, New Mexico, Utah, and Wyoming resulted in a harvest of 1,336 RMP cranes, a 4 percent decrease from the record-high harvest of 1,392 in 2009-10.

The Lower Colorado River Valley Population (LCRVP) survey results indicate a slight increase from 2,264 birds in 2010 to 2,415 birds in 2011. However, despite this slight increase, the 3-year average fell to 2,360 LCRVP cranes, which is below the population objective of 2,500.

The Eastern Population (EP) rebounded from near extirpation in the late 1800s to almost 30,000 cranes by 1996. In the fall of 2010, the estimate of EP cranes was approximately 50,000 birds. As a result of this increase and their range expansion, the Atlantic and Mississippi Flyway Councils developed a cooperative management plan for this population, and criteria have been developed describing when hunting seasons can be opened. The State of Kentucky has proposed to initiate the first hunting season on this population in the 2011-12 season. Specifics of the proposal are discussed in the proposed frameworks for early-season regulations (76 FR 44730; July 26, 2011). A draft EA on the hunting of EP sandhill cranes, as allowed under the management plan, was prepared and can be found on our Web site at http://www.fws.gov/migratorybirds, or at http://www.regulations.gov.

Woodcock

Singing-ground and Wing-collection surveys were conducted to assess the population status of the American woodcock (Scolopax minor). The Singing-ground Survey is intended to measure long-term changes in woodcock population levels. Singing-ground Survey data for 2011 indicate that the number of singing male woodcock in the Eastern and Central Management Regions were unchanged from 2010. There were no significant 10-year trends in woodcock heard in the Eastern or Central Management Regions during 2001-2011, which marks the eighth consecutive year that the 10-year trend estimate for the Eastern Region was stable, while the trend in the Central Region returned to being not statistically significant after being negative last year. There were long-term (1968-2011) declines of 1.0 percent per year in both management regions. The Wing-collection Survey provides an index to recruitment. Wing-collection Survey data indicate that the 2010 recruitment index for the U.S. portion of the Eastern Region (1.5 immatures per adult female) was 1.2 percent lower than the 2009 index, and 10.2 percent lower than the long-term (1963-2009) average. The recruitment index for the U.S. portion of the Central Region (1.6 immatures per adult female) was 30.2 percent above the 2009 index and 2.1 percent below the long-term (1963-2009) average.

Band-Tailed Pigeons

Two subspecies of band-tailed pigeon occur north of Mexico, and they are managed as two separate populations in the United States: the Interior Population and the Pacific Coast Population. Information on the abundance and harvest of band-tailed pigeons is collected annually in the United States and British Columbia. Abundance information comes from the Breeding Bird Survey (BBS) and, for the Pacific Coast Population, the BBS and the Mineral Site Survey (MSS). Annual counts of Interior band-tailed pigeons seen and heard per route have declined since implementation of the BBS in 1968. No statistically significant trends in abundance are evident during the recent 5- and 10-year periods. The 2010 harvest of Interior band-tailed pigeons was estimated to be 5,000 birds. BBS counts of Pacific Coast band-tailed pigeons seen and heard per route also have declined since 1968, but trends in abundance during the recent 5- and 10-year periods were not significant. The MSS, however, provided evidence that abundance decreased during the recent 5- (-8.4 percent) and 7-year (-8.1 percent) (since survey implementation) periods. The 2010 estimate of harvest for Pacific Coast band-tailed pigeons was 18,400 birds.

Mourning Doves

The Mourning Dove Call-count Survey (CCS) data is analyzed within a Bayesian hierarchical modeling framework, consistent with analysis methods for other long-term point count surveys such as the American Woodcock Singing-ground Survey and the North American Breeding Bird Survey. According to the analysis of the CCS, there was no trend in counts of mourning doves heard over the most recent 10 years (2002-11) in the Eastern Management Unit. There was a negative trend in mourning doves heard for the Central and Western Management Units. Over the 46-year period, 1966-2011, the number of mourning doves heard per route decreased in all three dove management units. The number of doves seen per route was also collected during the CCS. For the past 10 years, there was no trend in doves seen for the Central and Western Management Units; however, there was evidence of an increasing trend in the Eastern Management Unit. Over 46 years, there was a positive trend in doves seen in the Eastern Management Unit, and declining trends were indicated for the Central and Western Management Units. The preliminary 2010 harvest estimate for the United States was 17,230,400 mourning doves.

White-Winged Doves

Two States harbor substantial populations of white-winged doves: Arizona and Texas. California and New Mexico have much smaller populations. The Arizona Game and Fish Department monitors white-winged dove populations by means of a CCS to provide an annual index to population size. It runs concurrently with the Service's Mourning Dove CCS. The index of mean number of white-winged doves heard per route from this survey peaked at 52.3 in 1968, but then declined until about 2000. The index has stabilized at around 25 doves per route in the last few years; in 2011, the mean number of doves heard per route was 24.4. Arizona Game and Fish also historically monitored white-winged dove harvest. Harvest of white-winged doves in Arizona peaked in the late 1960s at approximately 740,000 birds, and has since declined and stabilized at around 100,000 birds; the preliminary 2010 Migratory Bird Harvest Information Program (HIP) estimate of harvest was 84,900 birds.

In Texas, white-winged doves continue to expand their breeding range. Nesting by white-winged doves has been recorded in most counties, with new colonies recently found in east Texas. Nesting is essentially confined to urban areas, but appears to be expanding to exurban areas. Concomitant with this range expansion has been a continuing increase in white-winged dove abundance. A new distance-based sampling protocol was implemented for Central and South Texas in 2007, and has been expanded each year. In 2010, officials surveyed 4,650 points statewide and estimated the urban population of breeding white-winged doves at 4.6 million. Current year's survey data are being analyzed and abundance estimates will be available later this summer. Additionally, the Texas Parks and Wildlife Department has an operational white-winged dove banding program and has banded 52,001 white-winged doves from 2006 to 2010. The estimated harvest of white-wings in Texas in the 2010 season was 1,436,800 birds. The Texas Parks and Wildlife Department continues to work to improve the scientific basis for management of white-winged doves.

In California, Florida, Louisiana, and New Mexico available BBS data indicate an increasing trend in the population indices between 1966 and 2010. According to HIP surveys, the preliminary harvest estimates were 78,200 white-winged doves in California, 6,200 in Florida, 4,600 in Louisiana, and 29,500 in New Mexico.

White-Tipped Doves

White-tipped doves occur primarily south of the United States-Mexico border; however, the species does occur in Texas. Monitoring information is presently limited. White-tipped doves are believed to be maintaining a relatively stable population in the Lower Rio Grande Valley of Texas. Distance-based sampling procedures implemented in Texas are also providing limited information on white-tipped dove abundance. Texas is working to improve the sampling frame to include the rural Rio Grande corridor in order to improve the utility of population indices. Annual estimates for white-tipped dove harvest in Texas average between 3,000 and 4,000 birds.

Hunting Season Proposals From Indian Tribes and Organizations

For the 2011-12 hunting season, we received requests from 25 Tribes and Indian organizations. In this proposed rule, we respond to these requests and also evaluate anticipated requests for 5 Tribes from whom we usually hear but from whom we have not yet received proposals. We actively solicit regulatory proposals from other tribal groups that are interested in working cooperatively for the benefit of waterfowl and other migratory game birds. We encourage Tribes to work with us to develop agreements for management of migratory bird resources on tribal lands.

It should be noted that this proposed rule includes generalized regulations for both early- and late-season hunting. A final rule will be published in a late-August 2011 Federal Register that will include tribal regulations for the early-hunting season. Early seasons generally begin around September 1 each year and most commonly include such species as American woodcock, sandhill cranes, mourning doves, and white-winged doves. Late seasons generally begin on or around September 24 and most commonly include waterfowl species.

In this current rulemaking, because of the compressed timeframe for establishing regulations for Indian Tribes and because final frameworks dates and other specific information are not available, the regulations for many tribal hunting seasons are described in relation to the season dates, season length, and limits that will be permitted when final Federal frameworks are announced for early- and late-season regulations. For example, daily bag and possession limits for ducks on some areas are shown as the same as permitted in Pacific Flyway States under final Federal frameworks, and limits for geese will be shown as the same permitted by the State(s) in which the tribal hunting area is located.

The proposed frameworks for early-season regulations were published in the Federal Register on July 26, 2011 (76 FR 44730); early-season final frameworks will be published in late August. Proposed late-season frameworks for waterfowl and coots will be published in mid-August, and the final frameworks for the late seasons will be published in mid-September. We will notify affected Tribes of season dates, bag limits, etc., as soon as final frameworks are established. As previously discussed, no action is required by Tribes wishing to observe migratory bird hunting regulations established by the State(s) where they are located. The proposed regulations for the 30 Tribes that meet the established criteria are shown below.

(a) Colorado River Indian Tribes, Colorado River Indian Reservation, Parker, Arizona (Tribal Members and Nontribal Hunters)

The Colorado River Indian Reservation is located in Arizona and California. The Tribes own almost all lands on the reservation, and have full wildlife management authority.

In their 2011-12 proposal, the Colorado River Indian Tribes requested split dove seasons. They propose that their early season begin September 1 and end September 15, 2011. Daily bag limits would be 10 mourning or white-winged doves in the aggregate. The late season for doves is proposed to open November 12, 2011, and close December 26, 2011. The daily bag limit would be 10 mourning doves. The possession limit would be twice the daily bag limit after the first day of the season. Shooting hours would be from one-half hour before sunrise to noon in the early season and until sunset in the late season. Other special tribally set regulations would apply.

The Tribes also propose duck hunting seasons. The season would open October 8, 2011, and run until January 22, 2012. The Tribes propose the same season dates for mergansers, coots, and common moorhens. The daily bag limit for ducks, including mergansers, would be seven, except that the daily bag limits could contain no more than two hen mallards, two redheads, two Mexican ducks, two goldeneye, three scaup, one pintail, and two cinnamon teal. The season on canvasback is closed. The possession limit would be twice the daily bag limit after the first day of the season. The daily bag and possession limit for coots and common moorhens would be 25, singly or in the aggregate.

For geese, the Colorado River Indian Tribes propose a season of October 15, 2011, through January 22, 2012. The daily bag limit for geese would be three light geese and three dark geese. The possession limit would be six light geese and six dark geese after opening day.

In 1996, the Tribes conducted a detailed assessment of dove hunting. Results showed approximately 16,100 mourning doves and 13,600 white-winged doves were harvested by approximately 2,660 hunters who averaged 1.45 hunter-days. Field observations and permit sales indicate that fewer than 200 hunters participate in waterfowl seasons. Under the proposed regulations described here and based upon past seasons, we and the Tribes estimate harvest will be similar.

Hunters must have a valid Colorado River Indian Reservation hunting permit and a Federal Migratory Bird Stamp in their possession while hunting. Other special tribally set regulations would apply. As in the past, the regulations would apply both to tribal and nontribal hunters, and nontoxic shot is required for waterfowl hunting.

We propose to approve the Colorado River Indian Tribes regulations for the 2011-12 hunting season, given the seasons' dates fall within final flyway frameworks (applies to nontribal hunters only).

(b) Confederated Salish and Kootenai Tribes, Flathead Indian Reservation, Pablo, Montana (Tribal and Nontribal Hunters)

For the past several years, the Confederated Salish and Kootenai Tribes and the State of Montana have entered into cooperative agreements for the regulation of hunting on the Flathead Indian Reservation. The State and the Tribes are currently operating under a cooperative agreement signed in 1990 that addresses fishing and hunting management and regulation issues of mutual concern. This agreement enables all hunters to utilize waterfowl hunting opportunities on the reservation.

As in the past, tribal regulations for nontribal hunters would be at least as restrictive as those established for the Pacific Flyway portion of Montana. Goose season dates would also be at least as restrictive as those established for the Pacific Flyway portion of Montana. Shooting hours for waterfowl hunting on the Flathead Reservation are sunrise to sunset. Steel shot or other federally approved nontoxic shots are the only legal shotgun loads on the reservation for waterfowl or other game birds.

For tribal members, the Tribe proposes outside frameworks for ducks and geese of September 1, 2011, through March 9, 2012. Daily bag and possession limits were not proposed for tribal members.

The requested season dates and bag limits are similar to past regulations. Harvest levels are not expected to change significantly. Standardized check station data from the 1993-94 and 1994-95 hunting seasons indicated no significant changes in harvest levels and that the large majority of the harvest is by nontribal hunters.

We propose to approve the Tribes' request for special migratory bird regulations for the 2011-12 hunting season.

(c) Fond du Lac Band of Lake Superior Chippewa Indians, Cloquet, Minnesota (Tribal Members Only)

Since 1996, the Service and the Fond du Lac Band of Lake Superior Chippewa Indians have cooperated to establish special migratory bird hunting regulations for tribal members. The Fond du Lac's May 26, 2011, proposal covers land set apart for the band under the Treaties of 1837 and 1854 in northeastern and east-central Minnesota and the Band's Reservation near Duluth.

The band's proposal for 2011-12 is essentially the same as that approved last year except for a proposed sandhill crane season with separate regulations for the 1854 and 1837 ceded territories and reservation lands. The proposed 2011-12 waterfowl hunting season regulations for Fond du Lac are as follows:

Ducks

A. 1854 and 1837 Ceded Territories:

Season Dates: Begin September 17 and end November 27, 2011.

Daily Bag Limit: 18 ducks, including no more than 12 mallards (only 3 of which may be hens), 9 black ducks, 9 scaup, 9 wood ducks, 9 redheads, 9 pintails, and 9 canvasbacks.

B. Reservation:

Season Dates: Begin September 3 and end November 27, 2011.

Daily Bag Limit: 12 ducks, including no more than 8 mallards (only 2 of which may be hens), 6 black ducks, 6 scaup, 6 redheads, 6 pintails, 6 wood ducks, and 6 canvasbacks.

Mergansers

A. 1854 and 1837 Ceded Territories:

Season Dates: Begin September 17 and end November 27, 2011.

Daily Bag Limit: 15 mergansers, including no more than 6 hooded mergansers.

B. Reservation:

Season Dates: Begin September 3 and end November 27, 2011.

Daily Bag Limit: 10 mergansers, including no more than 4 hooded mergansers.

Canada Geese

All Areas:

Season Dates: Begin September 1 and end November 27, 2011.

Daily Bag Limit: 20 geese.

Sandhill Cranes

1854 Ceded Territory only:

Season Dates: Begin September 1 and end November 27, 2011.

Daily Bag Limit: One sandhill crane. A crane carcass tag is required prior to hunting.

Coots and Common Moorhens (Common Gallinules)

A. 1854 and 1837 Ceded Territories:

Season Dates: Begin September 17 and end November 27, 2011.

Daily Bag Limit: 20 coots and common moorhens, singly or in the aggregate.

B. Reservation:

Season Dates: Begin September 3 and end November 27, 2011.

Daily Bag Limit: 20 coots and common moorhens, singly or in the aggregate.

Sora and Virginia Rails

All Areas:

Season Dates: Begin September 1 and end November 27, 2011.

Daily Bag Limit: 25 sora and Virginia rails, singly or in the aggregate.

Common Snipe

All Areas:

Season Dates: Begin September 1 and end November 27, 2011.

Daily Bag Limit: Eight common snipe.

Woodcock

All Areas:

Season Dates: Begin September 1 and end November 27, 2011.

Daily Bag Limit: Three woodcock.

Mourning Dove

All Areas:

Season Dates: Begin September 1 and end October 30, 2011.

Daily Bag Limit: 30 mourning doves.

The following general conditions apply:

1. While hunting waterfowl, a tribal member must carry on his/her person a valid Ceded Territory License.

2. Shooting hours for migratory birds are one-half hour before sunrise to one-half hour after sunset.

3. Except as otherwise noted, tribal members will be required to comply with tribal codes that will be no less restrictive than the provisions of Chapter 10 of the Model Off-Reservation Code. Except as modified by the Service rules adopted in response to this proposal, these amended regulations parallel Federal requirements in 50 CFR part 20 as to hunting methods, transportation, sale, exportation, and other conditions generally applicable to migratory bird hunting.

4. Band members in each zone will comply with State regulations providing for closed and restricted waterfowl hunting areas.

5. There are no possession limits on any species, unless otherwise noted above. For purposes of enforcing bag limits, all migratory birds in the possession or custody of band members on ceded lands will be considered to have been taken on those lands unless tagged by a tribal or State conservation warden as having been taken on-reservation. All migratory birds that fall on reservation lands will not count as part of any off-reservation bag or possession limit.

The band anticipates harvest will be fewer than 500 ducks and geese.

We propose to approve the request for special migratory bird hunting regulations for the Fond du Lac Band of Lake Superior Chippewa Indians.

(d) Grand Traverse Band of Ottawa and Chippewa Indians, Suttons Bay, Michigan (Tribal Members Only)

In the 1995-96 migratory bird seasons, the Grand Traverse Band of Ottawa and Chippewa Indians and the Service first cooperated to establish special regulations for waterfowl. The Grand Traverse Band is a self-governing, federally recognized Tribe located on the west arm of Grand Traverse Bay in Leelanau County, Michigan. The Grand Traverse Band is a signatory Tribe of the Treaty of 1836. We have approved special regulations for tribal members of the 1836 treaty's signatory Tribes on ceded lands in Michigan since the 1986-87 hunting season.

For the 2011-12 season, the Tribe requests that the tribal member duck season run from September 18, 2011, through January 18, 2012. A daily bag limit of 20 would include no more than 5 pintail, 3 canvasback, 1 hooded merganser, 5 black ducks, 5 wood ducks, 3 redheads, and 9 mallards (only 4 of which may be hens).

For Canada and snow geese, the Tribe proposes a September 1 through November 30, 2011, and a January 1 through February 8, 2012, season. For white-fronted geese and brant, the Tribe proposes a September 20 through November 30, 2011, season. The daily bag limit for Canada and snow geese would be 10, and the daily bag limit for white-fronted geese and including brant would be 5 birds. We further note that based on available data (of major goose migration routes), it is unlikely that any Canada geese from the Southern James Bay Population will be harvested by the Tribe.

For woodcock, the Tribe proposes a September 1 through November 14, 2011, season. The daily bag limit will not exceed five birds. For mourning doves, snipe, and rails, the Tribe proposes a September 1 through November 14, 2011, season. The daily bag limit would be 10 per species.

All other Federal regulations contained in 50 CFR part 20 would apply. The Tribe proposes to monitor harvest closely through game bag checks, patrols, and mail surveys. Harvest surveys from the 2006-07 hunting season indicated that approximately 15 tribal hunters harvested an estimated 112 ducks and 50 Canada geese.

We propose to approve the Grand Traverse Band of Ottawa and Chippewa Indians requested 2011-12 special migratory bird hunting regulations.

(e) Great Lakes Indian Fish and Wildlife Commission, Odanah, Wisconsin (Tribal Members Only)

Since 1985, various bands of the Lake Superior Tribe of Chippewa Indians have exercised judicially recognized off-reservation hunting rights for migratory birds in Wisconsin. The specific regulations were established by the Service in consultation with the Wisconsin Department of Natural Resources and the Great Lakes Indian Fish and Wildlife Commission. (GLIFWC is an intertribal agency exercising delegated natural resource management and regulatory authority from its member Tribes in portions of Wisconsin, Michigan, and Minnesota.) Beginning in 1986, a Tribal season on ceded lands in the western portion of the Michigan Upper Peninsula was developed in coordination with the Michigan Department of Natural Resources. We have approved regulations for Tribal members in both Michigan and Wisconsin since the 1986-87 hunting season. In 1987, GLIFWC requested, and we approved, regulations to permit Tribal members to hunt on ceded lands in Minnesota, as well as in Michigan and Wisconsin. The States of Michigan and Wisconsin originally concurred with the regulations, although both Wisconsin and Michigan have raised various concerns over the years. Minnesota did not concur with the original regulations, stressing that the State would not recognize Chippewa Indian hunting rights in Minnesota's treaty area until a court with jurisdiction over the State acknowledges and defines the extent of these rights. In 1999, the U.S. Supreme Court upheld the existence of the tribes' treaty reserved rights in Minnesota v. Mille Lacs Band, 199 S.Ct. 1187 (1999).

We acknowledge all of the States' concerns, but point out that the U.S. Government has recognized the Indian treaty reserved rights, and that acceptable hunting regulations have been successfully implemented in Minnesota, Michigan, and Wisconsin. Consequently, in view of the above, we have approved regulations since the 1987-88 hunting season on ceded lands in all three States. In fact, this recognition of the principle of treaty reserved rights for band members to hunt and fish was pivotal in our decision to approve a 1991-92 season for the 1836 ceded area in Michigan. Since then, in the 2007 Consent Decree the 1836 Treaty Tribes' and Michigan Department of Natural Resources and Environment established court-approved regulations pertaining to off-reservation hunting rights for migratory birds.

For 2011, the GLIFWC proposed off-reservation special migratory bird hunting regulations on behalf of the member Tribes of the Voigt Intertribal Task Force of the GLIFWC (for the 1837 and 1842 Treaty areas) and the Bay Mills Indian Community (for the 1836 Treaty area). Member Tribes of the Task Force are: the Bad River Band of the Lake Superior Tribe of Chippewa Indians, the Lac Courte Oreilles Band of Lake Superior Chippewa Indians, the Lac du Flambeau Band of Lake Superior Chippewa Indians, the Red Cliff Band of Lake Superior Chippewa Indians, the St. Croix Chippewa Indians of Wisconsin, the Sokaogon Chippewa Community (Mole Lake Band), all in Wisconsin; the Mille Lacs Band of Chippewa Indians in Minnesota; the Lac Vieux Desert Band of Chippewa Indians, and the Keweenaw Bay Indian Community in Michigan.

The GLIFWC 2011 proposal is generally similar to last year's regulations, except for several significant changes. Specifically, the GLIFWC proposal allows the use of electronic calls in the 1837 and 1842 Treaty Areas; extends shooting hours by 45 minutes to 1 hour after sunset in the 1837 and 1842 Treaty Areas and by 15 minutes to 30 minutes after sunset in the 1836 Treaty Area; eliminates possession limits in the 1837 and 1842 Treaty Areas; allows the use of unattended decoys in Michigan; increases the daily bag limits for ducks in the 1837 and 1842 Treaty Areas from 30 to 40 ducks; and eliminates all species restrictions within the bag limit for ducks in the 1837 and 1842 Treaty Areas.

GLIFWC states that the proposed regulatory changes are intended to increase tribal subsistence harvest opportunities, while protecting migratory bird populations. Under the GLIFWC proposed regulations, GLIFWC expects total ceded territory harvest to be approximately 1,575 ducks and 300 geese and 150 geese, which is roughly similar to anticipated levels in previous years. GLIWFC further anticipates that tribal harvest will remain low given the small number of tribal hunters and the limited opportunity to harvest more than a small number of birds on most hunting trips.

Recent GLIFWC harvest surveys (1996-98, 2001, 2004, and 2007-08) indicate that tribal off-reservation waterfowl harvest has averaged less than 1,050 ducks and 200 geese annually. In the latest survey year for which we have specific results (2004), an estimated 53 hunters took an estimated 421 trips and harvested 645 ducks (1.5 ducks per trip) and 84 geese (0.2 geese per trip). Analysis of hunter survey data over 1996-2004 indicates a general downward trend in both harvest and hunter participation.

While we acknowledge that tribal harvest and participation has declined in recent years, we do not believe that the GLIFWC's proposal for tribal waterfowl seasons on ceded lands in Wisconsin, Michigan, and Minnesota for the 2011 season is the best plan for increasing tribal participation or for the conservation of migratory birds. More specific discussion follows below.

Allowing Electronic Calls

The issue of allowing electronic calls and other electronic devices for migratory game bird hunting has been highly debated and highly controversial over the last 40 years, similar to other prohibited hunting methods such as baiting. Electronic calls, i.e., the use or aid of recorded or electronic amplified bird calls or sounds, or recorded or electrically amplified imitations of bird calls or sounds to lure or attract migratory game birds to hunters, was Federally prohibited in 1957 because of its effectiveness in aiding the harvest of migratory birds and is generally not considered a legitimate component of hunting. In 1999, after much debate, the migratory bird regulations were revised to allow the use of electronic calls for the take of light geese (lesser snow geese and Ross geese) during a light-goose-only season when all other waterfowl and crane hunting seasons, excluding falconry, were closed (64 FR 7507, February 16, 1999; 64 FR 71236, December 20, 1999; and 73 FR 65926, November 5, 2008). The regulations were subsequently changed also in 2006 to allow the use of electronic calls for the take of resident Canada geese during Canada-goose-only September seasons when all other waterfowl and crane seasons, excluding falconry, were closed (71 FR 45964, August 10, 2006). In both instances, these changes were made in order to significantly increase the harvest of these species due to either serious population overabundance, or depredation issues, or public health and safety issues, or both.

Available information from the use of additional hunting methods, such as electronic calls, during the special light-goose seasons indicate that total harvest increased approximately 50-69 percent. On specific days when light-goose special regulations were in effect, the mean light goose harvest increased 244 percent. One research study found that lesser snow goose flocks were 5.0 times more likely to fly within gun range (≤50 meters) in response to electronic calls than to traditional calls and the mean number of snow geese killed per hour per hunter averaged 9.1 times greater for electronic calls than for traditional calls. We believe these results are applicable to most waterfowl species.

Removal of the electronic call prohibition would be inconsistent with our conservation concerns. Given available evidence on the effectiveness of electronic calls, we believe the potential for overharvest in localized areas could contribute to long-term population declines. Further, it is possible that hunter participation could increase beyond GLIFWC's estimates (50 percent) and could result in additional conservation impacts, particularly on locally breeding populations. Thus, we do not support allowing the use of electronic calls in the 1837 and 1842 Treaty Areas.

Additionally, given the fact that tribal waterfowl hunting covered by this proposal would occur on ceded lands that are not in the ownership of the Tribes, we believe the use of electronic calls to take waterfowl would lead to confusion and frustration on the part of the public, hunters, wildlife-management agencies, and law enforcement officials due to the inherent difficulties of different sets of hunting regulations for different areas and groups of hunters. Moreover, the allowance of electronic calls for tribal hunting on ceded lands would make those lands and other adjacent areas off-limits to waterfowl hunting anytime tribal hunters were hunting with electronic calls (due to the influence of electronic calls on birds).

Expanded Shooting Hours

Normally, shooting hours for migratory game birds are one-half hour before sunrise to sunset. A number of reasons and concerns have been cited for extending shooting hours past sunset. Potential impacts to some locally breeding populations (e.g., wood ducks), hunter safety, difficulty of identifying birds, retrieval of downed birds, and impacts on law enforcement are some of the normal concerns raised when discussing potential expansions of shooting hours. However, despite these concerns, in 2007, we supported the expansion of shooting hours by 15 minutes after sunset in the 1837, 1842, and 1836 Treaty Areas (72 FR 58452, October 15, 2007). We had previously supported this expansion in other tribal areas and have not been made aware of any wide-scale problems. Further, at that time, we believed that the continuation of a specific species restriction within the daily bag limit for mallards, and the implementation of a species restriction within the daily bag limit for wood ducks, would allay potential conservation concerns for these species. We supported the increase with the understanding that we would need to closely monitor tribal harvest through either GLIFWC's own increased harvest surveys or GLIFWC's assisting the Service to survey tribal hunters.

At this time, however, we cannot support increasing the shooting hours by 45 minutes in the 1837 and 1842 Treaty Areas (to 60 minutes after sunset) and by 15 minutes in the 1836 Treaty Area (to 30 minutes after sunset). Significantly extending the shooting hours by 45 minutes only heightens our previously identified concerns regarding species identification, species conservation of locally breeding populations, retrieval of downed birds, hunter safety, and law enforcement impacts. Generally, it is widely considered dark 30 minutes after sunset, and we see no viable remedies to allay our concerns.

Increasing the Overall Daily Bag Limit for Ducks

Based on the increased bag limits, GLIFWC is estimating a relatively small additional duck harvest (1,050 to 1,575). However, it is possible that hunter participation could increase beyond their estimates (50 percent) and could result in a conservation impact, particularly on locally breeding populations. Further, based on the GLIFWC's own harvest data, present daily bag limits do not appear to be a hindrance or limiting factor for Tribal harvest, and increasing the daily bag limit to 40 ducks would be far in excess (more than double) of anything we currently have experience with regarding tribal migratory bird hunting regulations (except for GLIFWC's present 30-duck daily bag limit). Until we have additional information on which we could assess potential impacts, we do not favor increasing daily bag limits for ducks to the extent GLIFWC has proposed. We note that in 2007, in an effort to obtain the necessary information, we implemented a pilot expansion of the daily bag limit to 30 birds per day in the 1837 and 1842 Treaty Areas. We supported this with the understanding that we would need to closely monitor tribal harvest through either GLIFWC's own increased harvest surveys or GLIFWC's assisting the Service to survey tribal hunters. We again reiterate our request for GLIFWC to continue their current harvest survey based on our implementation of a pilot bag limit increase for ducks in the 1837 and 1842 Treaty Areas in 2007, particularly for species such as mallards which were subsequently significantly increased in 2008 (from 10 to 30 per day). We believe the pilot bag limits implemented then, and changed in 2008, should warrant at least several years of data evaluation using GLIFWC's current harvest survey. To date, we have not been presented with adequate data on which to base an informed decision.

Eliminating the Possession Limit

We believe GLIFWC's proposal to eliminate all possession limits in the 1837 and 1842 Treaty Areas could have potential resource conservation impacts. Possession limits are normally two times the daily bag limit and together with daily bag limits have been an integral part of the harvest management of migratory game birds when regulating take during sport hunting seasons since the signing of the Migratory Bird Treaty Act (1918). Back then, daily bag limits for most species of migratory game birds were relatively large and there were no possession limits. As daily bag limits were reduced due to concern over migratory game bird status, and concomitant with improved and more commonplace food preservation equipment (particularly home freezers), a possession limit of twice the daily bag limit was adopted in 1930.

Currently, definitions of possession limit are regulations contained in the U.S. Code of Federal Regulations (CFR) in 50 CFR part 20. Further, the increment of the possession limit for sport hunting seasons relative to the daily bag limit is an annual regulation and is published in the frameworks for early and late seasons.

While daily bag limits have proven to be an effective tool in regulating harvests, the degree to which possession limits have been able to regulate harvests is more equivocal. Many assert that migratory bird population management is not affected by reasonable changes in possession limits and would have a minimal, if any, effect on harvest (and therefore population status) of most migratory bird stocks. Others that believe that possession limits of twice the daily bag limit that we have had in place since 1930 are no longer appropriate for today's more mobile society with hunters traveling more often and longer distances to hunt migratory birds. Further, possession limits in Canada have recently been changed, and possession limits are no longer consistent between our respective Treaty nations. However, from a law enforcement aspect, the possession limit has been an important tool for the determination of hunting violations both in the field and when stored, such as in a person's home freezer.

In 2010, several Flyway Councils forwarded recommendations to the Service for a change to the possession limits for certain migratory birds, beginning in 2011. As such, we began a review of possession limits and their use (75 FR 58250, September 23, 2010). We plan to make some formal recommendations and proposals regarding possession limits and their use in the near future. Until then, however, we do not support wide-scale changes in the current regulations regarding possession limits.

Allowing the Use of Unattended Decoys in Michigan

In Michigan, State law requires that unattended decoys may not be left out overnight. While we believe that there may be safety concerns with elimination of such a restriction, we take no position on the relative need or lack of need for such a restriction. Other than regulations on National Wildlife Refuges and other Federal lands, there are no Federal restrictions requiring the removal of unattended decoys.

Additionally, given the fact that tribal waterfowl hunting covered by this proposal would occur on ceded lands that are not in the ownership of the Tribes, we believe the use of unattended decoys to “reserve” hunting areas in public waters (i.e., those lands in the ceded territories outside of lands directly controlled by the Tribes) could lead to confusion and frustration on the part of the public, hunters, wildlife-management agencies, and law enforcement officials due to the inherent difficulties of different sets of hunting regulations for different areas and groups of hunters. We also believe the allowance of unattended decoys for tribal hunting on ceded lands would likely lead to increased acrimony and debate regarding issues of fairness from non-tribal hunters.

Removal of Species Restrictions

We have several concerns with GLIFWC's proposal to remove all species restrictions within the overall duck daily bag limits in the 1837 and 1842 Treaty Areas. We have a number of duck species that are either showing long-term downward population trends (pintails and black ducks), or other species for which an increased daily bag limit of 40 birds per day could potentially have conservation impacts (canvasbacks), particularly on locally breeding ducks (mallards and wood ducks). Overharvest of these species in localized areas due to removal of species restrictions could contribute to long-term declines. Removal of species restrictions on these species would be inconsistent with our current conservation concerns. Thus, we continue to support the following species restrictions within the overall daily bag limit in all three of the Treaty Areas: 5 black ducks, 5 pintails, and 5 canvasbacks. We believe these species restrictions are commensurate with each individual species' population status.

Further, we remind GLIFWC that in 2008, we removed mallards from the internal daily bag limit restrictions (73 FR 51704, September 4, 2008). At that time, while we had expressed concerns in the past (72 FR 58452, October 15, 2007; 73 FR 48098, August 15, 2008) with GLIFWC's proposal for removal of mallard restrictions within the overall duck daily bag limits in the 1837, 1842, and 1836 Treaty Areas, we believed that an increase in the daily bag limit of mallards (by removal of the internal bag limit restriction) from 10 mallards per day to 30 mallards per day in the 1837 and 1842 Treaty Areas and 20 mallards per day in the 1836 Treaty Area would have no significant conservation impacts on locally breeding mallards. We reached this conclusion based largely on the fact that the tribal harvest, both past and anticipated, is relatively minuscule—around 600 mallards—and widely distributed. However, we reiterated our request for GLIFWC to continue with their current harvest survey based on our implementation of a pilot bag limit increase for ducks in the 1837 and 1842 Treaty Areas in 2007. We believed the pilot bag limits implemented in 2007 should warrant at least several years of data evaluation using GLIFWC's current harvest survey. We reiterate those same concerns today and continue to stress the importance of several years of data evaluation in order to make well-informed decisions.

Summary

In summary, given the above information, we believe that the regulations advanced by the GLIFWC for the 2011-12 hunting season are not in the best interests of the migratory bird resource. As we have previously stated (71 FR 55076, September 20, 2006; and 72 FR 58452, October 15, 2007), we are willing to meet with the GLIFWC to explore possible ways to increase tribal participation in migratory bird hunting opportunities. We appreciated the opportunity we had to meet with the Tribes in 2008 to discuss the mutual concerns we have for the migratory bird resource and future hunting opportunities.

The proposed 2011-12 waterfowl hunting season regulations apply to all treaty areas (except where noted) for GLIFWC as follows:

Ducks:

Season Dates: Begin September 15 and end December 31, 2011.

Daily Bag Limit: 30 ducks, including no more than 5 black ducks, 5 pintails, and 5 canvasbacks.

Mergansers:

Season Dates: Begin September 15 and end December 31, 2011.

Daily Bag Limit: 10 mergansers.

Geese:

Season Dates: Begin September 1 and end December 31, 2011. In addition, any portion of the ceded territory that is open to State-licensed hunters for goose hunting outside of these dates will also be open concurrently for tribal members.

Daily Bag Limit: 20 geese in aggregate.

Other Migratory Birds:

A. Coots and Common Moorhens (Common Gallinules):

Season Dates: Begin September 15 and end December 31, 2011.

Daily Bag Limit: 20 coots and common moorhens (common gallinules), singly or in the aggregate.

B. Sora and Virginia Rails:

Season Dates: Begin September 15 and end December 31, 2011.

Daily Bag and Possession Limits: 20, singly or in the aggregate, 25.

C. Common Snipe:

Season Dates: Begin September 15 and end December 31, 2011.

Daily Bag Limit: 16 common snipe.

D. Woodcock:

Season Dates: Begin September 6 and end December 1, 2011.

Daily Bag Limit: 10 woodcock.

E. Mourning Dove: 1837 and 1842 Ceded Territories only.

Season Dates: Begin September 1 and end November 9, 2011.

Daily Bag Limit: 15 mourning doves.

General Conditions

A. All tribal members will be required to obtain a valid tribal waterfowl hunting permit.

B. Except as otherwise noted, tribal members will be required to comply with tribal codes that will be no less restrictive than the model ceded territory conservation codes approved by Federal courts in the Lac Courte Oreilles v. State of Wisconsin (Voigt) and Mille Lacs Band v. State of Minnesota cases. Chapter 10 in each of these model codes regulates ceded territory migratory bird hunting. Both versions of Chapter 10 parallel Federal requirements as to hunting methods, transportation, sale, exportation, and other conditions generally applicable to migratory bird hunting. They also automatically incorporate by reference the Federal migratory bird regulations adopted in response to this proposal.

C. Particular regulations of note include:

1. Nontoxic shot will be required for all waterfowl hunting by tribal members.

2. Tribal members in each zone will comply with tribal regulations providing for closed and restricted waterfowl hunting areas. These regulations generally incorporate the same restrictions contained in parallel State regulations.

3. Possession limits for each species are double the daily bag limit, except on the opening day of the season, when the possession limit equals the daily bag limit, unless otherwise noted above. Possession limits are applicable only to transportation and do not include birds that are cleaned, dressed, and at a member's primary residence. For purposes of enforcing bag and possession limits, all migratory birds in the possession and custody of tribal members on ceded lands will be considered to have been taken on those lands unless tagged by a tribal or State conservation warden as taken on reservation lands. All migratory birds that fall on reservation lands will not count as part of any off-reservation bag or possession limit.

4. The baiting restrictions included in the respective section 10.05(2)(h) of the model ceded territory conservation codes will be amended to include language which parallels that in place for nontribal members as published at 64 FR 29799, June 3, 1999.

5. The shell limit restrictions included in the respective section 10.05(2)(b) of the model ceded territory conservation codes will be removed.

6. Hunting hours shall be from a half hour before sunrise to 15 minutes after sunset.

D. Michigan—Duck Blinds and Decoys. Tribal members hunting in Michigan will comply with duck blind and decoy regulations contained in tribal conservation codes listed under Item B of the General Conditions, except that unattended decoys can be kept out overnight in the Michigan portion of the 1842 ceded territory.

We propose to approve the above GLIFWC regulations for the 2011-12 hunting season.

(f) Jicarilla Apache Tribe, Jicarilla Indian Reservation, Dulce, New Mexico (Tribal Members and Nontribal Hunters)

The Jicarilla Apache Tribe has had special migratory bird hunting regulations for tribal members and nonmembers since the 1986-87 hunting season. The Tribe owns all lands on the reservation and has recognized full wildlife management authority. In general, the proposed seasons would be more conservative than allowed by the Federal frameworks of last season and by States in the Pacific Flyway.

The Tribe proposed a 2011-12 waterfowl and Canada goose season beginning October 8, 2011, and a closing date of November 30, 2011. Daily bag and possession limits for waterfowl would be the same as Pacific Flyway States. The Tribe proposes a daily bag limit for Canada geese of two. Other regulations specific to the Pacific Flyway guidelines for New Mexico would be in effect.

During the Jicarilla Game and Fish Department's 2010-11 season, estimated duck harvest was 551, which is within the historical harvest range. The species composition in the past has included mainly mallards, gadwall, wigeon, and teal. Northern pintail comprised less than one percent of the total harvest in 2010. The estimated harvest of geese was 16 birds.

The proposed regulations are essentially the same as were established last year. The Tribe anticipates the maximum 2011-12 waterfowl harvest would be around 500 ducks and 15-20 geese.

We propose to approve the Tribe's requested 2011-12 hunting seasons.

(g) Kalispel Tribe, Kalispel Reservation, Usk, Washington (Tribal Members and Nontribal Hunters)

The Kalispel Reservation was established by Executive Order in 1914, and currently comprises approximately 4,600 acres. The Tribe owns all Reservation land and has full management authority. The Kalispel Tribe has a fully developed wildlife program with hunting and fishing codes. The Tribe enjoys excellent wildlife management relations with the State. The Tribe and the State have an operational Memorandum of Understanding with emphasis on fisheries but also for wildlife.

The nontribal member seasons described below pertain to a 176-acre waterfowl management unit and 800 acres of reservation land with a guide for waterfowl hunting. The Tribe is utilizing this opportunity to rehabilitate an area that needs protection because of past land use practices, as well as to provide additional waterfowl hunting in the area. Beginning in 1996, the requested regulations also included a proposal for Kalispel-member-only migratory bird hunting on Kalispel-ceded lands within Washington, Montana, and Idaho.

For the 2011-12 migratory bird hunting seasons, the Kalispel Tribe proposed tribal and nontribal member waterfowl seasons. The Tribe requests that both duck and goose seasons open at the earliest possible date and close on the latest date under Federal frameworks.

For nontribal hunters on reservation, the Tribe requests the seasons open at the earliest possible date and remain open, for the maximum amount of open days. Specifically, the Tribe requests that the season for ducks begin September 23, 2011, and end January 31, 2012. In that period, nontribal hunters would be allowed to hunt approximately 102 days. Hunters should obtain further information on specific hunt days from the Kalispel Tribe.

The Tribe also requests the season for geese run from September 2 to September 16, 2011, and from October 1, 2011, to January 31, 2012. Total number of days should not exceed 107. Nontribal hunters should obtain further information on specific hunt days from the Tribe. Daily bag and possession limits would be the same as those for the State of Washington.

The Tribe reports a 2010-11 nontribal harvest of 100 ducks. Under the proposal, the Tribe expects harvest to be similar to last year and less than 100 geese and 200 ducks.

All other State and Federal regulations contained in 50 CFR part 20, such as use of nontoxic shot and possession of a signed migratory bird hunting stamp, would be required.

For tribal members on Kalispel-ceded lands, the Kalispel Tribe proposes season dates consistent with Federal flyway frameworks. Specifically, the Tribe requests outside frameworks for ducks of October 1, 2011, through January 31, 2012, and for geese of September 1, 2011, through January 31, 2012. The Tribe requests that both duck and goose seasons open at the earliest possible date and close on the latest date under Federal frameworks. During that period, the Tribe proposes that the season run continuously. Daily bag and possession limits would be concurrent with the Federal rule.

The Tribe reports that there was no tribal harvest. Under the proposal, the Tribe expects harvest to be less than 200 birds for the season with less than 100 geese. Tribal members would be required to possess a signed Federal migratory bird stamp and a tribal ceded lands permit.

We propose to approve the regulations requested by the Kalispel Tribe, provided that the nontribal seasons conform to Treaty limitations and final Federal frameworks for the Pacific Flyway.

(h) Klamath Tribe, Chiloquin, Oregon (Tribal Members Only)

The Klamath Tribe currently has no reservation, per se. However, the Klamath Tribe has reserved hunting, fishing, and gathering rights within its former reservation boundary. This area of former reservation, granted to the Klamaths by the Treaty of 1864, is over 1 million acres. Tribal natural resource management authority is derived from the Treaty of 1864, and carried out cooperatively under the judicially enforced Consent Decree of 1981. The parties to this Consent Decree are the Federal Government, the State of Oregon, and the Klamath Tribe. The Klamath Indian Game Commission sets the seasons. The tribal biological staff and tribal regulatory enforcement officers monitor tribal harvest by frequent bag checks and hunter interviews.

For the 2011-12 season, the Tribe requests proposed season dates of October 1, 2011, through January 31, 2012. Daily bag limits would be 9 for ducks, 9 for geese, and 9 for coot, with possession limits twice the daily bag limit. Shooting hours would be one-half hour before sunrise to one-half hour after sunset. Steel shot is required.

Based on the number of birds produced in the Klamath Basin, this year's harvest would be similar to last year's. Information on tribal harvest suggests that more than 70 percent of the annual goose harvest is local birds produced in the Klamath Basin.

We propose to approve the Klamath Tribe's requested 2011-12 special migratory bird hunting regulations.

(i) Leech Lake Band of Ojibwe, Cass Lake, Minnesota (Tribal Members Only)

The Leech Lake Band of Ojibwe is a federally recognized Tribe located in Cass Lake, Minnesota. The reservation employs conservation officers to enforce conservation regulations. The Service and the Tribe have cooperatively established migratory bird hunting regulations since 2000.

For the 2011-12 season, the Tribe requests a duck season starting on September 17 and ending December 31, 2011, and a goose season to run from September 1 through December 31, 2011. Daily bag limits for ducks would be 10, including no more than 5 pintail, 5 canvasback, and 5 black ducks. Daily bag limits for geese would be 10. Possession limits would be twice the daily bag limit. Shooting hours are one-half hour before sunrise to one-half hour after sunset.

The annual harvest by tribal members on the Leech Lake Reservation is estimated at 500-1,000 birds.

We propose to approve the Leech Lake Band of Ojibwe's special migratory bird hunting season.

(j) Little River Band of Ottawa Indians, Manistee, Michigan (Tribal Members Only)

The Little River Band of Ottawa Indians is a self-governing, federally recognized Tribe located in Manistee, Michigan, and a signatory Tribe of the Treaty of 1836. We have approved special regulations for tribal members of the 1836 treaty's signatory Tribes on ceded lands in Michigan since the 1986-87 hunting season. Ceded lands are located in Lake, Mason, Manistee, and Wexford Counties. The Band normally proposes regulations to govern the hunting of migratory birds by Tribal members within the 1836 Ceded Territory as well as on the Band's Reservation.

For the 2011-12 season, we assume the Little River Band of Ottawa Indians would propose a duck and merganser season from September 15, 2011, through January 20, 2012. A daily bag limit of 12 ducks would include no more than 2 pintail, 2 canvasback, 3 black duck, 3 wood ducks, 3 redheads, 6 mallards (only 2 of which may be a hen), and 1 hooded merganser. Possession limits would be twice the daily bag limit.

For white-fronted geese, snow geese, and brant, the Tribe usually proposes a September 20 through November 30, 2011, season. Daily bag limits would be five geese.

For Canada geese only, the Tribe usually proposes a September 1, 2011, through February 8, 2012, season with a daily bag limit of five Canada geese. The possession limit would be twice the daily bag limit.

For snipe, woodcock, rails, and mourning doves, the Tribe usually proposes a September 1 to November 14, 2011, season. The daily bag limit would be 10 common snipe, 5 woodcock, 10 rails, and 10 mourning doves. Possession limits for all species would be twice the daily bag limit.

The Tribe monitored harvest through mail surveys. General conditions were as follows:

A. All tribal members will be required to obtain a valid tribal resource card and 2011-12 hunting license.

B. Except as modified by the Service rules adopted in response to this proposal, these amended regulations parallel all Federal regulations contained in 50 CFR part 20.

C. Particular regulations of note include:

(1) Nontoxic shot will be required for all waterfowl hunting by tribal members.

(2) Tribal members in each zone will comply with tribal regulations providing for closed and restricted waterfowl hunting areas. These regulations generally incorporate the same restrictions contained in parallel State regulations.

D. Tribal members hunting in Michigan will comply with tribal codes that contain provisions parallel to Michigan law regarding duck blinds and decoys.

We plan to approve Little River Band of Ottawa Indians' special migratory bird hunting seasons upon receipt of their proposal based on the provisions described above.

(k) The Little Traverse Bay Bands of Odawa Indians, Petoskey, Michigan (Tribal Members Only)

The Little Traverse Bay Bands of Odawa Indians (LTBB) is a self-governing, federally recognized Tribe located in Petoskey, Michigan, and a signatory Tribe of the Treaty of 1836. We have approved special regulations for tribal members of the 1836 treaty's signatory Tribes on ceded lands in Michigan since the 1986-87 hunting season.

For the 2011-12 season, the Little Traverse Bay Bands of Odawa Indians propose regulations similar to those of other Tribes in the 1836 treaty area. LTBB proposes the regulations to govern the hunting of migratory birds by tribal members on the LTBB reservation and within the 1836 Treaty Ceded Territory. The tribal member duck and merganser season would run from September 15, 2011, through January 31, 2012. A daily bag limit of 20 ducks and 10 mergansers would include no more than 5 hen mallards, 5 pintail, 5 canvasback, 5 scaup, 5 hooded merganser, 5 black ducks, 5 wood ducks, and 5 redheads.

For Canada geese, the Tribe proposes a September 1, 2011, through February 8, 2012, season. The daily bag limit for Canada geese would be 20 birds. We further note that based on available data (of major goose migration routes), it is unlikely that any Canada geese from the Southern James Bay Population would be harvested by the Tribe. Possession limits are twice the daily bag limit.

For woodcock, the Tribe proposes a September 1, 2011, to December 1, 2011, season. The daily bag limit will not exceed 10 birds. For snipe, the Tribe proposes a September 1 to December 31, 2011, season. The daily bag limit will not exceed 16 birds. For mourning doves, the Tribe proposes a September 1 to November 14, 2011, season. The daily bag limit will not exceed 15 birds. For Virginia and sora rails, the Tribe proposes a September 1 to December 31, 2011, season. The daily bag limit will not exceed 20 birds per species. For coots and gallinules, the Tribe proposes a September 15 to December 31, 2011, season. The daily bag limit will not exceed 20 birds per species. The possession limit will not exceed 2 days' bag limit for all birds.

All other Federal regulations contained in 50 CFR part 20 would apply.

The Tribe proposes to monitor harvest closely through game bag checks, patrols, and mail surveys. In particular, the Tribe proposes monitoring the harvest of Southern James Bay Canada geese to assess any impacts of tribal hunting on the population.

We propose to approve the Little Traverse Bay Bands of Odawa Indians' requested 2011-12 special migratory bird hunting regulations.

(l) Lower Brule Sioux Tribe, Lower Brule Reservation, Lower Brule, South Dakota (Tribal Members and Nontribal Hunters)

The Lower Brule Sioux Tribe first established tribal migratory bird hunting regulations for the Lower Brule Reservation in 1994. The Lower Brule Reservation is about 214,000 acres in size and is located on and adjacent to the Missouri River, south of Pierre. Land ownership on the reservation is mixed, and until recently, the Lower Brule Tribe had full management authority over fish and wildlife via an MOA with the State of South Dakota. The MOA provided the Tribe jurisdiction over fish and wildlife on reservation lands, including deeded and Corps of Engineers-taken lands. For the 2011-12 season, the two parties have come to an agreement that provides the public a clear understanding of the Lower Brule Sioux Wildlife Department license requirements and hunting season regulations. The Lower Brule Reservation waterfowl season is open to tribal and nontribal hunters.

For the 2011-12 migratory bird hunting season, the Lower Brule Sioux Tribe proposes a nontribal member duck, merganser, and coot season length of 97 days, or the maximum number of days allowed by Federal frameworks in the High Plains Management Unit for this season. The Tribe proposes a duck season from September 27, 2011, through January 1, 2012. The daily bag limit would be six birds, including no more than one hen mallard, one pintail, two redheads, one canvasback, two wood ducks, two scaup, and one mottled duck. The daily bag limit for mergansers would be five, only two of which could be a hooded merganser. The daily bag limit for coots would be 15. Possession limits would be twice the daily bag limits.

The Tribe's proposed nontribal-member Canada goose season would run from October 29, 2011, through February 12, 2012 (107-day season length), with a daily bag limit of three Canada geese. The Tribe's proposed nontribal member white-fronted goose season would run from October 29, 2011, through January 6, 2012, and January 28 through February 12, 2012, with a daily bag limit of one white-fronted geese. The Tribe's proposed nontribal-member light goose season would run from October 29, 2011, through January 12, 2012, and February 4 through March 10, 2012. The light goose daily bag limit would be 20. Possession limits would be twice the daily bag limits.

For tribal members, the Lower Brule Sioux Tribe proposes a duck, merganser, and coot season from September 24, 2011, through March 10, 2012. The daily bag limit would be six ducks, including no more than one hen mallard, one pintail, two redheads, one canvasback, two wood ducks, two scaup, and one mottled duck. The daily bag limit for mergansers would be five, only two of which could be hooded mergansers. The daily bag limit for coots would be 15. Possession limits would be twice the daily bag limits.

The Tribe's proposed Canada goose season for tribal members would run from September 24, 2011, through March 10, 2012, with a daily bag limit of three Canada geese. The Tribe's proposed white-fronted goose tribal season would run from September 24, 2011, through March 10, 2012, with a daily bag limit of two white-fronted geese. The Tribe's proposed light goose tribal season would run from September 24, 2011, through March 10, 2012. The light goose daily bag limit would be 20. Possession limits would be twice the daily bag limits.

In the 2010-11 season, hunters harvested 793 geese and 462 ducks. In the 2010-11 season, duck harvest species composition was primarily mallard (64 percent), gadwall (9 percent), green-winged teal (9 percent), wigeon (7 percent), and other species (11 percent).

Goose harvest species composition in 2010-11 at Mni Sho Sho was approximately 50 percent Canada geese, 48 percent snow geese, and 2 percent white-fronted geese.

The Tribe anticipates a duck harvest similar to those of the previous 3 years and a goose harvest below the target harvest level of 3,000 to 4,000 geese. All basic Federal regulations contained in 50 CFR part 20, including the use of nontoxic shot, Migratory Waterfowl Hunting and Conservation Stamps, etc., would be observed by the Tribe's proposed regulations. In addition, the Lower Brule Sioux Tribe has an official Conservation Code that was established by Tribal Council Resolution in June 1982 and updated in 1996.

We plan to approve the Tribe's requested regulations for the Lower Brule Reservation given that the seasons' dates fall within final Federal flyway frameworks (applies to nontribal hunters only).

(m) Lower Elwha Klallam Tribe, Port Angeles, Washington (Tribal Members Only)

Since 1996, the Service and the Point No Point Treaty Tribes, of which Lower Elwha was one, have cooperated to establish special regulations for migratory bird hunting. The Tribes are now acting independently and the Lower Elwha Klallam Tribe would like to establish migratory bird hunting regulations for tribal members for the 2011-12 season. The Tribe has a reservation on the Olympic Peninsula in Washington State and is a successor to the signatories of the Treaty of Point No Point of 1855.

For the 2011-12 season, the Lower Elwha Klallam Tribe requests a duck and coot season from September 17, 2011, to January 2, 2012. The daily bag limit will be seven ducks including no more than two hen mallards, one pintail, one canvasback, and two redheads. The daily bag and possession limit on harlequin duck will be one per season. The coot daily bag limit will be 25. The possession limit will be twice the daily bag limit, except as noted above.

For geese, the Tribe requests a season from September 17, 2011, to January 2, 2012. The daily bag limit will be four, including no more than three light geese. The season on Aleutian Canada geese will be closed.

For brant, the Tribe proposes to close the season.

For mourning doves, band-tailed pigeon, and snipe, the Tribe requests a season from September 17, 2011, to January 2, 2012, with a daily bag limit of 10, 2, and 8, respectively. The possession limit will be twice the daily bag limit.

All Tribal hunters authorized to hunt migratory birds are required to obtain a tribal hunting permit from the Lower Elwha Klallam Tribe pursuant to tribal law. Hunting hours would be from one-half hour before sunrise to sunset. Only steel, tungsten-iron, tungsten-polymer, tungsten-matrix, and tin shot are allowed for hunting waterfowl. It is unlawful to use or possess lead shot while hunting waterfowl.

The Tribe typically anticipates harvest to be fewer than 20 birds. Tribal reservation police and Tribal fisheries enforcement officers have the authority to enforce these migratory bird hunting regulations.

The Service proposes to approve the request for special migratory bird hunting regulations for the Lower Elwha Klallam Tribe.

(n) Makah Indian Tribe, Neah Bay, Washington (Tribal Members Only)

The Makah Indian Tribe and the Service have been cooperating to establish special regulations for migratory game birds on the Makah Reservation and traditional hunting land off the Makah Reservation since the 2001-02 hunting season. Lands off the Makah Reservation are those contained within the boundaries of the State of Washington Game Management Units 601-603.

The Makah Indian Tribe proposes a duck and coot hunting season from September 24, 2011, to January 29, 2012. The daily bag limit is seven ducks, including no more than five mallards (only two hen mallard), one canvasback, one pintail, three scaup, and one redhead. The daily bag limit for coots is 25. The Tribe has a year-round closure on wood ducks and harlequin ducks. Shooting hours for all species of waterfowl are one-half hour before sunrise to sunset.

For geese, the Tribe proposes that the season open on September 24, 2011, and close January 29, 2012. The daily bag limit for geese is four and one brant. The Tribe notes that there is a year-round closure on Aleutian and Dusky Canada geese.

For band-tailed pigeons, the Tribe proposes that the season open September 17, 2011, and close October 30, 2011. The daily bag limit for band-tailed pigeons is two.

The Tribe anticipates that harvest under this regulation will be relatively low since there are no known dedicated waterfowl hunters and any harvest of waterfowl or band-tailed pigeons is usually incidental to hunting for other species, such as deer, elk, and bear. The Tribe expects fewer than 50 ducks and 10 geese to be harvested during the 2011-12 migratory bird hunting season.

All other Federal regulations contained in 50 CFR part 20 would apply. The following restrictions are also usually proposed by the Tribe:

(1) As per Makah Ordinance 44, only shotguns may be used to hunt any species of waterfowl. Additionally, shotguns must not be discharged within 0.25 miles of an occupied area.

(2) Hunters must be eligible, enrolled Makah tribal members and must carry their Indian Treaty Fishing and Hunting Identification Card while hunting. No tags or permits are required to hunt waterfowl.

(3) The Cape Flattery area is open to waterfowl hunting, except in designated wilderness areas, or within 1 mile of Cape Flattery Trail, or in any area that is closed to hunting by another ordinance or regulation.

(4) The use of live decoys and/or baiting to pursue any species of waterfowl is prohibited.

(5) Steel or bismuth shot only for waterfowl is allowed; the use of lead shot is prohibited.

(6) The use of dogs is permitted to hunt waterfowl.

We plan to approve the Makah Indian Tribe's requested 2011-12 special migratory bird hunting regulations.

(o) Navajo Nation, Navajo Indian Reservation, Window Rock, Arizona (Tribal Members and Nontribal Hunters)

Since 1985, we have established uniform migratory bird hunting regulations for tribal members and nonmembers on the Navajo Indian Reservation (in parts of Arizona, New Mexico, and Utah). The Navajo Nation owns almost all lands on the reservation and has full wildlife management authority.

For the 2011-12 season, the Navajo Nation requests special migratory bird hunting regulations on the reservation for both tribal and nontribal hunters for ducks (including mergansers), Canada geese, coots, band-tailed pigeons, and mourning doves. For ducks, mergansers, Canada geese, and coots, the Tribe requests the earliest opening dates and longest seasons, and the same daily bag and possession limits allowed to Pacific Flyway States under final Federal frameworks.

For both mourning dove and band-tailed pigeons, the Navajo Nation proposes seasons of September 1 through September 30, 2011, with daily bag limits of 10 and 5, respectively. Possession limits would be twice the daily bag limits.

The Nation requires tribal members and nonmembers to comply with all basic Federal migratory bird hunting regulations in 50 CFR part 20 pertaining to shooting hours and manner of taking. In addition, each waterfowl hunter 16 years of age or over must carry on his/her person a valid Migratory Bird Hunting and Conservation Stamp (Duck Stamp), which must be signed in ink across the face. Special regulations established by the Navajo Nation also apply on the reservation.

The Tribe anticipates a total harvest of fewer than 500 mourning doves; fewer than 10 band-tailed pigeons; fewer than 1,000 ducks, coots, and mergansers; and fewer than 1,000 Canada geese for the 2011-12 season. The Tribe will measure harvest by mail survey forms. Through the established Navajo Nation Code, Title 17, 18, and 23 U.S.C. 1165, the Tribe will take action to close the season, reduce bag limits, or take other appropriate actions if the harvest is detrimental to the migratory bird resource.

We propose to approve the Navajo Nation's special migratory bird season.

(p) Oneida Tribe of Indians of Wisconsin, Oneida, Wisconsin (Tribal Members Only)

Since 1991-92, the Oneida Tribe of Indians of Wisconsin and the Service have cooperated to establish uniform regulations for migratory bird hunting by tribal and nontribal hunters within the original Oneida Reservation boundaries. Since 1985, the Oneida Tribe's Conservation Department has enforced the Tribe's hunting regulations within those original reservation limits. The Oneida Tribe also has a good working relationship with the State of Wisconsin and the majority of the seasons and limits are the same for the Tribe and Wisconsin.

In a May 12, 2011, letter, the Tribe proposed special migratory bird hunting regulations. For ducks, the Tribe described the general outside dates as being September 18 through December 4, 2011, with a closed segment of November 19 to 27, 2011. The Tribe proposes a daily bag limit of six birds, which could include no more than six mallards (three hen mallards), six wood duck, one redhead, two pintail, and one hooded merganser.

For geese, the Tribe requests a season between September 1 and January 1, 2012, with a daily bag limit of five Canada geese from September 1 through 18, 2011, and three from September 19, 2011, through January 1, 2012. The Tribe will close the season November 19 to 27, 2011. If a quota of 300 geese is attained before the season concludes, the Tribe will recommend closing the season early.

For woodcock, the Tribe proposes a season between September 3 and November 6, 2011, with a daily bag and possession limit of 5 and 10, respectively.

For mourning dove, the Tribe proposes a season between September 1 and November 6, 2011, with a daily bag and possession limit of 10 and 20, respectively.

The Tribe proposes shooting hours be one-half hour before sunrise to one-half hour after sunset. Nontribal hunters hunting on the Reservation or on lands under the jurisdiction of the Tribe must comply with all State of Wisconsin regulations, including shooting hours of one-half hour before sunrise to sunset, season dates, and daily bag limits. Tribal members and nontribal hunters hunting on the Reservation or on lands under the jurisdiction of the Tribe must observe all basic Federal migratory bird hunting regulations found in 50 CFR part 20, with the following exceptions: Oneida members would be exempt from the purchase of the Migratory Waterfowl Hunting and Conservation Stamp (Duck Stamp); and shotgun capacity is not limited to three shells.

The Service proposes to approve the request for special migratory bird hunting regulations for the Oneida Tribe of Indians of Wisconsin.

(q) Point No Point Treaty Council Tribes, Kingston, Washington (Tribal Members Only)

We are establishing uniform migratory bird hunting regulations for tribal members on behalf of the Point No Point Treaty Council Tribes, consisting of the Port Gamble S'Klallam and Jamestown S'Klallam Tribes. The two tribes have reservations and ceded areas in northwestern Washington State and are the successors to the signatories of the Treaty of Point No Point of 1855. These proposed regulations will apply to tribal members both on and off reservations within the Point No Point Treaty Areas; however, the Port Gamble S'Klallam and Jamestown S'Klallam Tribal season dates differ only where indicated below.

For the 2011-12 season, the Point No Point Treaty Council requests special migratory bird hunting regulations for the 2011-12 hunting season for both the Jamestown S'Klallam and Port Gamble S'Klallam Tribes. For ducks and coots hunting season, the Jamestown S'Klallam Tribe proposes the season open September 15, 2011, and close February 1, 2012. The Port Gamble S'Klallam Tribes proposes the season open from September 1, 2011, to February 1, 2012. The daily bag limit is seven ducks, including no more than two hen mallards, one canvasback, one pintail, two redhead, and four scoters. The daily bag limit for coots is 25. The daily bag limit and possession limit on harlequin ducks is one per season. The daily possession limits are double the daily bag limits except where noted.

For geese, the Point No Point Treaty Council proposes the season open on September 15, 2011, and close March 10, 2012. The daily bag limit for geese is four, not to include more than three light geese. The Council notes that there is a year-round closure on Aleutian and Cackling Canada geese. For brant, the Council proposes the season open on November 13, 2011, and close January 31, 2012. The daily bag limit for brant is two.

For band-tailed pigeons and snipe, the Port Gamble S'Klallam Tribe proposes the season open September 1, 2011, and close March 10, 2012. The Jamestown S'Klallam Tribe proposes the season open September 15, 2011, and close March 10, 2012. The daily bag limit for band-tailed pigeons is two and for snipe is eight. For mourning dove, the Port Gamble S'Klallam Tribe proposes the season open September 1, 2011, and close January 31, 2012. The Jamestown S'Klallam Tribe proposes the season open September 15, 2011, and close January 14, 2012. The daily bag limit for mourning dove is 10.

The Tribe anticipates a total harvest of fewer than 200 birds for the 2011-12 season. The Tribal Fish and Wildlife enforcement officers have the authority to enforce these tribal regulations.

We propose to approve the Point No Point Treaty Council Tribe's special migratory bird seasons.

(r) Sault Ste. Marie Tribe of Chippewa Indians, Sault Ste. Marie, Michigan (Tribal Members Only)

The Sault Ste. Marie Tribe of Chippewa Indians is a federally recognized self-governing Indian Tribe, distributed throughout the eastern Upper Peninsula and northern Lower Peninsula of Michigan. The Tribe has retained the right to hunt, fish, trap, and gather on the lands ceded in the Treaty of Washington (1836).

In a May 31, 2011, letter, the Tribe proposed special migratory bird hunting regulations. For ducks, mergansers, and common snipe, the Tribe proposes outside dates as September 15 through December 31, 2011. The Tribe proposes a daily bag limit of 20 ducks, which could include no more than 10 mallards (5 hen mallards), 5 wood duck, 5 black duck, and 5 canvasback. The merganser daily bag limit is 10 in the aggregate and 16 for common snipe.

For geese, coot, gallinule, sora, and Virginia rail, the Tribe requests a season from September 1 to December 31, 2011. The daily bag limit for geese is 20, in the aggregate. The daily bag limit for coot, gallinule, sora, and Virginia rail is 20 in the aggregate.

For woodcock, the Tribe proposes a season between September 2 and December 1, 2011, with a daily bag and possession limit of 10 and 20, respectively.

For mourning dove, the Tribe proposes a season between September 1 and November 14, 2011, with a daily bag and possession limit of 10 and 20, respectively.

All Sault Tribe members exercising hunting treaty rights within the 1836 Ceded Territory are required to submit annual harvest reports including date of harvest, number and species harvested, and location of harvest. Hunting hours would be from one-half hour before sunrise to one-half hour after sunset. All other regulations in 50 CFR part 20 apply including the use of only nontoxic shot for hunting waterfowl.

The Service proposes to approve the request for special migratory bird hunting regulations for the Sault Ste. Marie Tribe of Chippewa Indians.

(s) Shoshone-Bannock Tribes, Fort Hall Indian Reservation, Fort Hall, Idaho (Nontribal Hunters)

Almost all of the Fort Hall Indian Reservation is tribally owned. The Tribes claim full wildlife management authority throughout the reservation, but the Idaho Fish and Game Department has disputed tribal jurisdiction, especially for hunting by nontribal members on reservation lands owned by non-Indians. As a compromise, since 1985, we have established the same waterfowl hunting regulations on the reservation and in a surrounding off-reservation State zone. The regulations were requested by the Tribes and provided for different season dates than in the remainder of the State. We agreed to the season dates because they would provide additional protection to mallards and pintails. The State of Idaho concurred with the zoning arrangement. We have no objection to the State's use of this zone again in the 2011-12 hunting season, provided the duck and goose hunting season dates are the same as on the reservation.

In a proposal for the 2011-12 hunting season, the Shoshone-Bannock Tribes requested a continuous duck (including mergansers) season, with the maximum number of days and the same daily bag and possession limits permitted for Pacific Flyway States under the final Federal frameworks. The Tribes propose a duck and coot season with, if the same number of hunting days is permitted as last year, an opening date of October 1, 2011, and a closing date of January 13, 2012. The Tribes anticipate harvest will be between 2,000 and 5,000 ducks.

The Tribes also requested a continuous goose season with the maximum number of days and the same daily bag and possession limits permitted in Idaho under Federal frameworks. The Tribes propose that, if the same number of hunting days is permitted as in previous years, the season would have an opening date of October 1, 2011, and a closing date of January 13, 2012. The Tribes anticipate harvest will be between 4,000 and 6,000 geese.

The Tribe requests a common snipe season with the maximum number of days and the same daily bag and possession limits permitted in Idaho under Federal frameworks. The Tribes propose that, if the same number of hunting days is permitted as in previous years, the season would have an opening date of October 1, 2011, and a closing date of January 13, 2012.

Nontribal hunters must comply with all basic Federal migratory bird hunting regulations in 50 CFR part 20 pertaining to shooting hours, use of steel shot, and manner of taking. Special regulations established by the Shoshone-Bannock Tribes also apply on the reservation.

We note that the requested regulations are nearly identical to those of last year, and we propose to approve them for the 2011-12 hunting season given that the seasons' dates fall within the final Federal flyway frameworks (applies to nontribal hunters only).

(t) Skokomish Tribe, Shelton, Washington (Tribal Members Only)

Since 1996, the Service and the Point No Point Treaty Tribes, of which the Skokomish Tribe was one, have cooperated to establish special regulations for migratory bird hunting. The Tribes have been acting independently since 2005, and the Skokomish Tribe would like to establish migratory bird hunting regulations for tribal members for the 2011-12 season. The Tribe has a reservation on the Olympic Peninsula in Washington State and is a successor to the signatories of the Treaty of Point No Point of 1855.

The Skokomish Tribe requests a duck and coot season from September 16, 2011, to February 28, 2012. The daily bag limit is seven ducks, including no more than two hen mallards, one pintail, one canvasback, and two redheads. The daily bag and possession limit on harlequin duck is one per season. The coot daily bag limit is 25. The possession limit is twice the daily bag limit except as noted above.

For geese, the Tribe requests a season from September 16, 2011, to February 28, 2012. The daily bag limit is four, including no more than three light geese. The season on Aleutian Canada geese is closed. For brant, the Tribe proposes a season from November 1, 2011, to February 15, 2012, with a daily bag limit of two. The possession limit is twice the daily bag limit.

For mourning doves, band-tailed pigeon, and snipe, the Tribe requests a season from September 16, 2011, to February 28, 2012, with a daily bag limit of 10, 2, and 8, respectively. The possession limit is twice the daily bag limit.

All Tribal hunters authorized to hunt migratory birds are required to obtain a tribal hunting permit from the Skokomish Tribe pursuant to tribal law. Hunting hours would be from one-half hour before sunrise to sunset. Only steel, tungsten-iron, tungsten-polymer, tungsten-matrix, and tin shot are allowed for hunting waterfowl. It is unlawful to use or possess lead shot while hunting waterfowl.

The Tribe anticipates harvest to be fewer than 150 birds. The Skokomish Public Safety Office enforcement officers have the authority to enforce these migratory bird hunting regulations.

We propose to approve the Skokomish Tribe's requested migratory bird hunting season.

(u) Spokane Tribe of Indians, Spokane Indian Reservation, Wellpinit, Washington (Tribal Members Only)

The Spokane Tribe of Indians wishes to establish waterfowl seasons on their reservation for its membership to access as an additional resource. An established waterfowl season on the reservation will allow access to a resource for members to continue practicing a subsistence lifestyle.

The Spokane Indian Reservation is located in northeastern Washington State. The reservation comprises approximately 157,000 acres. The boundaries of the Reservation are the Columbia River to the west, the Spokane River to the south (now Lake Roosevelt), Tshimikn Creek to the east, and the 48th Parallel as the north boundary. Tribal membership comprises approximately 2,300 enrolled Spokane Tribal Members. Prior to 1939, the Spokane Tribe was primarily a salmon people; upon completion of Grand Coulee Dam creating Lake Roosevelt, the development of hydroelectricity without passage ultimately removed salmon access from historical fishing areas for the Spokane Tribe for the past 70 years.

These proposed regulations would allow Tribal Members, spouses of Spokane Tribal Members, and first-generation descendants of a Spokane Tribal Member with a tribal permit and Federal Waterfowl stamp an opportunity to utilize the reservation and ceded lands. It will also benefit tribal membership through access to this resource throughout Spokane Tribal ceded lands in eastern Washington. By Spokane Tribal Referendum, spouses of Spokane Tribal Members and children of Spokane Tribal Members not enrolled are allowed to harvest game animals within the Spokane Indian Reservation with the issuance of hunting permits.

For the 2011-12 season, the Tribe requests to establish duck seasons that would run from September 2, 2011, through January 31, 2012. The tribe is requesting the daily bag limit for ducks to be consistent with final Federal frameworks. The possession limit is twice the daily bag limit.

The Tribe proposes a season on geese starting September 2, 2011, and ending on January 31, 2012. The tribe is requesting the daily bag limit for geese to be consistent with final Federal frameworks. The possession limit is twice the daily bag limit.

Based on the quantity of requests the Spokane Tribe of Indians has received, the tribe anticipates harvest levels for the 2011-12 season for both ducks and geese to be below 100 total birds with goose harvest at fewer than 50. Hunter success will be monitored through mandatory harvest reports returned within 30 days of the season closure.

We propose to approve the Spokane Tribe's requested 2011-12 special migratory bird hunting regulations.

(v) Squaxin Island Tribe, Squaxin Island Reservation, Shelton, Washington (Tribal Members Only)

The Squaxin Island Tribe of Washington and the Service have cooperated since 1995 to establish special tribal migratory bird hunting regulations. These special regulations apply to tribal members on the Squaxin Island Reservation, located in western Washington near Olympia, and all lands within the traditional hunting grounds of the Squaxin Island Tribe.

For the 2011-12 season, the Tribe requests to establish duck and coot seasons that would run from September 1, 2011, through January 15, 2012. The daily bag limit for ducks is five per day and could include only one canvasback. The season on harlequin ducks is closed. For coots, the daily bag limit is 25. For snipe, the Tribe proposes that the season start on September 15, 2011, and end on January 15, 2012. The daily bag limit for snipe is eight. For band-tailed pigeon, the Tribe proposes that the season start on September 1, 2011, and end on December 31, 2011. The daily bag limit is five. The possession limit is twice the daily bag limit.

The Tribe proposes a season on geese starting September 15, 2011, and ending on January 15, 2012. The daily bag limit for geese is four, including no more than two snow geese. The season on Aleutian and cackling Canada geese is closed. For brant, the Tribe proposes that the season start on September 1, 2011, and end on December 31, 2011. The daily bag limit for brant is two. The possession limit is twice the daily bag limit.

We propose to approve the Tribe's requested 2011-12 special migratory bird hunting regulations.

(w) Stillaguamish Tribe of Indians, Arlington, Washington (Tribal Members Only)

The Stillaguamish Tribe of Indians and the Service have cooperated to establish special regulations for migratory game birds since 2001. We expect that the Tribe will request regulations to hunt all open and unclaimed lands under the Treaty of Point Elliott of January 22, 1855, including their main hunting grounds around Camano Island, Skagit Flats, and Port Susan to the border of the Tulalip Tribes Reservation. Ceded lands are located in Whatcom, Skagit, Snohomish, and Kings Counties, and a portion of Pierce County, Washington. The Stillaguamish Tribe of Indians is a federally recognized Tribe and reserves the Treaty Right to hunt (U.S. v. Washington).

The Tribe usually proposes that duck (including mergansers) and goose seasons run from October 1, 2011, to February 15, 2012. The daily bag limit on ducks (including sea ducks and mergansers) is 10 and must include no more than 7 mallards (only 3 of which can be hens), 3 pintails, 3 redheads, 3 scaup, and 3 canvasbacks. For geese, the daily bag limit is six. Possession limits are totals of these two daily bag limits.

The Tribe usually proposes that coot, brant, and snipe seasons run from October 1, 2011, to January 31, 2012. The daily bag limit for coot is 25. The daily bag limit on brant is three. The daily bag limit for snipe is 10. Possession limits are twice the daily bag limit.

The Tribe usually proposes that band-tailed pigeon and dove seasons run from September 1, 2011, to October 31, 2011. The daily bag limit for band-tailed pigeon is four. The daily bag limit on dove is 10. Possession limits are twice the daily bag limit.

Harvest is regulated by a punch card system. Tribal members hunting on lands under this proposal will observe all basic Federal migratory bird hunting regulations found in 50 CFR part 20, which will be enforced by the Stillaguamish Tribal law enforcement. Tribal members are required to use steel shot or a nontoxic shot as required by Federal regulations.

The Tribe anticipates a total harvest of 200 ducks, 100 geese, 50 mergansers, 100 coots, and 100 snipe. Anticipated harvest needs include subsistence and ceremonial needs. Certain species may be closed to hunting for conservation purposes, and consideration for the needs of certain species will be addressed.

Upon receipt of the 2011-12 Stillaguamish Tribe's hunting proposal, the Service proposes to approve the request for special migratory bird hunting regulations for the Stillaguamish Tribe of Indians.

(x) Swinomish Indian Tribal Community, LaConner, Washington (Tribal Members Only)

In 1996, the Service and the Swinomish Indian Tribal Community began cooperating to establish special regulations for migratory bird hunting. The Swinomish Indian Tribal Community is a federally recognized Indian Tribe consisting of the Swinomish, Lower Skagit, Samish, and Kikialous. The Swinomish Reservation was established by the Treaty of Point Elliott of January 22, 1855, and lies in the Puget Sound area north of Seattle, Washington.

For the 2011-12 season, we anticipate that the Tribal Community will request to establish a migratory bird hunting season on all areas that are open and unclaimed and consistent with the meaning of the treaty. The Tribal Community usually requests to establish duck, merganser, Canada goose, brant, and coot seasons opening on the earliest possible date allowed by the final Federal frameworks for the Pacific Flyway and closing 30 days after the State of Washington closes its season. The Swinomish Indian Tribal Community requests an additional three birds of each species over the numbers allowed by the State for daily bag and possession limits.

The Community normally anticipates that the regulations will result in the harvest of approximately 300 ducks, 50 Canada geese, 75 mergansers, 100 brant, and 50 coot. The Swinomish utilize a report card and permit system to monitor harvest and will implement steps to limit harvest where conservation is needed. All tribal regulations will be enforced by tribal fish and game officers.

On reservation, the Tribal Community usually proposes a hunting season for the above-mentioned species beginning on the earliest possible opening date and closing March 9, 2012. The Swinomish manage harvest by a report card and permit system, and we anticipate harvest will be similar to that expected off reservation.

We believe the estimated harvest by the Swinomish will be minimal and will not adversely affect migratory bird populations. Upon receipt of the 2011-12 Swinomish hunting proposal, we propose to approve the Tribe's requested 2011-12 special migratory bird hunting regulations.

(y) The Tulalip Tribes of Washington, Tulalip Indian Reservation, Marysville, Washington (Tribal Members and Nontribal Hunters)

The Tulalip Tribes are the successors in interest to the Tribes and bands signatory to the Treaty of Point Elliott of January 22, 1855. The Tulalip Tribes' government is located on the Tulalip Indian Reservation just north of the City of Everett in Snohomish County, Washington. The Tribes or individual tribal members own all of the land on the reservation, and they have full wildlife management authority. All lands within the boundaries of the Tulalip Tribes Reservation are closed to nonmember hunting unless opened by Tulalip Tribal regulations.

We expect the Tribe to propose tribal and nontribal hunting regulations for the 2011-12 season. Migratory waterfowl hunting by Tulalip Tribal members is authorized by Tulalip Tribal Ordinance No. 67. For ducks, mergansers, coot, and snipe, the proposed season for tribal members usually would be from September 8, 2011, through February 28, 2012. In the case of nontribal hunters hunting on the reservation, the season would be the latest closing date and the longest period of time allowed under the final Pacific Flyway Federal frameworks. Daily bag and possession limits for Tulalip Tribal members would be 7 and 14 ducks, respectively, except that for blue-winged teal, canvasback, harlequin, pintail, and wood duck, the bag and possession limits would be the same as those established in accordance with final Federal frameworks. For nontribal hunters, bag and possession limits would be the same as those permitted under final Federal frameworks. For coot, daily bag and possession limits are 25 and 50, respectively, and for snipe 8 and 18, respectively. Nontribal hunters should check with the Tulalip tribal authorities regarding additional conservation measures that may apply to specific species managed within the region. Ceremonial hunting may be authorized by the Department of Natural Resources at any time upon application of a qualified tribal member. Such a hunt must have a bag limit designed to limit harvest only to those birds necessary to provide for the ceremony.

For geese, tribal members usually propose a season from September 8, 2011, through February 28, 2012. Nontribal hunters would be allowed the longest season and the latest closing date permitted by the Pacific Flyway Federal frameworks. For tribal hunters, the goose daily bag and possession limits would be 7 and 14, respectively, except that the bag limits for brant, cackling Canada geese, and dusky Canada geese would be those established in accordance with final Federal frameworks. For nontribal hunters hunting on reservation lands, the daily bag and possession limits would be those established in accordance with final Federal frameworks for the Pacific Flyway. The Tulalip Tribes also set a maximum annual bag limit for those tribal members who engage in subsistence hunting of 365 ducks and 365 geese.

All hunters on Tulalip Tribal lands are required to adhere to shooting hour regulations set at one-half hour before sunrise to sunset, special tribal permit requirements, and a number of other tribal regulations enforced by the Tribe. Each nontribal hunter 16 years of age and older hunting pursuant to Tulalip Tribes' Ordinance No. 67 must possess a valid Federal Migratory Bird Hunting and Conservation Stamp and a valid State of Washington Migratory Waterfowl Stamp. Each hunter must validate stamps by signing across the face.

Although the season length requested by the Tulalip Tribes appears to be quite liberal, harvest information indicates a total take by tribal and nontribal hunters of fewer than 1,000 ducks and 500 geese annually.

Upon receipt of the 2011-12 Squaxin Island Tribe's hunting proposal, we propose to approve the Tulalip Tribe's request to have a special season.

(z) Upper Skagit Indian Tribe, Sedro Woolley, Washington (Tribal members only)

The Upper Skagit Indian Tribe and the Service have cooperated to establish special regulations for migratory game birds since 2001. The Tribe has jurisdiction over lands within Skagit, Island, and Whatcom Counties, Washington. The Tribe issues tribal hunters a harvest report card that will be shared with the State of Washington.

For the 2011-12 season, the Tribe requests a duck season starting October 1, 2011, and ending February 28, 2012. The Tribe proposes a daily bag limit of 15 with a possession limit of 20. The Tribe requests a coot season starting October 15, 2011, and ending February 15, 2012. The coot daily bag limit is 20 with a possession limit of 30.

The Tribe proposes a goose season from October 15, 2011, to February 28, 2012, with a daily bag limit of seven geese and a possession limit of 10. For brant, the Tribe proposes a season from November 1 to November 10, 2011, with a daily bag and possession limit of 2.

The Tribe proposes a mourning dove season between September 1 and December 31, 2011, with a daily bag limit of 12 and possession limit of 15.

The anticipated migratory bird harvest under this proposal would be 100 ducks, 5 geese, 2 brant, and 10 coots. Tribal members must have the tribal identification and tribal harvest report card on their person to hunt. Tribal members hunting on the Reservation will observe all basic Federal migratory bird hunting regulations found in 50 CFR part 20, except shooting hours would be 15 minutes before official sunrise to 15 minutes after official sunset.

The Service proposes to approve the request for special migratory bird hunting regulations for the Upper Skagit Indian Tribe.

(aa) Wampanoag Tribe of Gay Head, Aquinnah, Massachusetts (Tribal Members Only)

The Wampanoag Tribe of Gay Head is a federally recognized Tribe located on the island of Martha's Vineyard in Massachusetts. The Tribe has approximately 560 acres of land, which it manages for wildlife through its natural resources department. The Tribe also enforces its own wildlife laws and regulations through the natural resources department.

For the 2011-12 season, the Tribe proposes a duck season of October 15, 2011, through October 23, 2011, and November 1, 2011, through February 25, 2012. The Tribe proposes a daily bag limit of six birds, which could include no more than four hen mallards, four mottled ducks, one fulvous whistling duck, four mergansers, three scaup, two hooded mergansers, three wood ducks, one canvasback, two redheads, two pintail, and four of all other species not listed. The season for harlequin ducks is closed. The Tribe proposes a teal (green-winged and blue) season of October 13, 2011, through February 25, 2012. A daily bag limit of 10 teal would be in addition to the daily bag limit for ducks.

For sea ducks, the Tribe usually proposes a season between October 8, 2011, and February 25, 2012, with a daily bag limit of seven, which could include no more than one hen eider and four of any one species unless otherwise noted above.

For Canada geese, the Tribe usually requests a season between September 7 and September 24, 2011, and October 31, 2011, and February 25, 2012, with a daily bag limit of 8 Canada geese. For snow geese, the tribe requests a season between September 7 to September 24, 2011, and November 25, 2011, to February 25, 2012, with a daily bag limit of 15 snow geese.

For woodcock, the Tribe proposes a season between October 13 and November 26, 2011, with a daily bag limit of three. For sora and Virginia rails, the Tribe requests a season of September 1, 2011, through November 9, 2011, with a daily bag limit of 5 sora and 10 Virginia rails. For snipe, the Tribe requests a season of September 1, 2011, through December 16, 2011, with a daily bag limit of 8.

Prior to 2011, the Tribe had 22 registered tribal hunters and estimates harvest to be no more than 15 geese, 25 mallards, 25 teal, 50 black ducks, and 50 of all other species combined. Tribal members hunting on the Reservation will observe all basic Federal migratory bird hunting regulations found in 50 CFR part 20. The Tribe requires hunters to register with the Harvest Information Program.

We propose to approve the Wampanoag Tribe of Gay Head's requested 2011-12 special migratory bird hunting regulations.

(bb) White Earth Band of Ojibwe, White Earth, Minnesota (Tribal Members Only)

The White Earth Band of Ojibwe is a federally recognized tribe located in northwest Minnesota and encompasses all of Mahnomen County and parts of Becker and Clearwater Counties. The reservation employs conservation officers to enforce migratory bird regulations. The Tribe and the Service first cooperated to establish special tribal regulations in 1999.

For the 2011-12 migratory bird hunting season, the White Earth Band of Ojibwe requests a duck season to start September 17 and end December 11, 2011. For ducks, they request a daily bag limit of 10, including no more than 2 mallards, 1 pintail, and 1 canvasback. For mergansers, the Tribe proposes the season to start September 17 and end December 18, 2011. The merganser daily bag limit would be five with no more than two hooded mergansers. For geese, the Tribe proposes an early season from September 1 through September 25, 2011, and a late season from September 26, 2011, through December 19, 2011. The early season daily bag limit is eight geese, and the late season daily bag limit is five geese.

For coots, dove, rail, woodcock, and snipe, the Tribe proposes a September 1 through November 30, 2011, season with daily bag limits of 20 coots, 25 doves, 25 rails, 10 woodcock, and 10 snipe. Shooting hours are one-half hour before sunrise to one-half hour after sunset. Nontoxic shot is required.

Based on past harvest surveys, the Tribe anticipates harvest of 1,000 to 2,000 Canada geese and 1,000 to 1,500 ducks. The White Earth Reservation Tribal Council employs four full-time conservation officers to enforce migratory bird regulations.

We propose to approve the White Earth Band of Ojibwe's request to have a special season.

(cc) White Mountain Apache Tribe, Fort Apache Indian Reservation, Whiteriver, Arizona (Tribal Members and Nontribal Hunters)

The White Mountain Apache Tribe owns all reservation lands, and the Tribe has recognized full wildlife management authority. In past years, the White Mountain Apache Tribe has requested regulations that are essentially unchanged from those agreed to since the 1997-98 hunting year.

The hunting zone for waterfowl is restricted and is described as: the length of the Black River west of the Bonito Creek and Black River confluence and the entire length of the Salt River forming the southern boundary of the reservation; the White River, extending from the Canyon Day Stockman Station to the Salt River; and all stock ponds located within Wildlife Management Units 4, 5, 6, and 7. Tanks located below the Mogollon Rim, within Wildlife Management Units 2 and 3, will be open to waterfowl hunting during the 2011-12 season. The length of the Black River east of the Black River/Bonito Creek confluence is closed to waterfowl hunting. All other waters of the reservation would be closed to waterfowl hunting for the 2011-12 season.

For nontribal and tribal hunters, the Tribe usually proposes a continuous duck, coot, merganser, gallinule, and moorhen hunting season, with an opening date of October 10, 2011, and a closing date of January 24, 2012. The Tribe usually proposes a separate scaup season, with an opening date of October 10, 2011, and a closing date of December 6, 2011. The Tribe proposes a daily duck (including mergansers) bag limit of seven, which may include no more than two redheads, one pintail, and seven mallards (including no more than two hen mallards). The season on canvasback is closed. The daily bag limit for coots, gallinules, and moorhens would be 25, singly or in the aggregate. For geese, the Tribe usually proposes a season from October 10, 2011, through January 31, 2012. Hunting would be limited to Canada geese, and the daily bag limit would be three.

Season dates for band-tailed pigeons and mourning doves would usually run concurrently from September 1 through September 15, 2011, in Wildlife Management Unit 10 and all areas south of Y-70 and Y-10 in Wildlife Management Unit 7, only. Proposed daily bag limits for band-tailed pigeons and mourning doves would be 3 and 10, respectively.

Possession limits for the above species are twice the daily bag limits. Shooting hours would be from one-half hour before sunrise to sunset. There would be no open season for sandhill cranes, rails, and snipe on the White Mountain Apache lands under this proposal. A number of special regulations apply to tribal and nontribal hunters, which may be obtained from the White Mountain Apache Tribe Game and Fish Department.

Upon receipt of the 2011-12 hunting proposal, we propose to approve the White Mountain Apache Tribe's requested 2011-12 special migratory bird hunting regulations.

(dd) Yankton Sioux Tribe, Marty, South Dakota (Tribal Members and Nontribal Hunters)

The Yankton Sioux Tribe has yet to submit a waterfowl hunting proposal for the 2011-12 season. The Yankton Sioux tribal waterfowl hunting season usually would be open to both tribal members and nontribal hunters. The waterfowl hunting regulations would apply to tribal and trust lands within the external boundaries of the reservation.

For ducks (including mergansers) and coots, the Yankton Sioux Tribe usually proposes a season starting October 9, 2011, and running for the maximum amount of days allowed under the final Federal frameworks. Daily bag and possession limits would be six ducks, which may include no more than five mallards (no more than two hens), one canvasback (when the season is open), two redheads, three scaup, one pintail, or two wood ducks. The bag limit for mergansers is five, which would include no more than one hooded merganser. The coot daily bag limit is 15.

For geese, the Tribe usually requests a dark goose (Canada geese, brant, white-fronted geese) season starting October 29, 2011, and closing January 31, 2012. The daily bag limit would be three geese (including no more than one white-fronted goose or brant). Possession limits would be twice the daily bag limit. For white geese, the proposed hunting season would start October 29, 2011, and run for the maximum amount of days allowed under the final Federal frameworks for the State of South Dakota. Daily bag and possession limits would equal the maximum allowed under Federal frameworks.

All hunters would have to be in possession of a valid tribal license while hunting on Yankton Sioux trust lands. Tribal and nontribal hunters must comply with all basic Federal migratory bird hunting regulations in 50 CFR part 20 pertaining to shooting hours and the manner of taking. Special regulations established by the Yankton Sioux Tribe also apply on the reservation.

During the 2005-06 hunting season, the Tribe reported that 90 nontribal hunters took 400 Canada geese, 75 light geese, and 90 ducks. Forty-five tribal members harvested fewer than 50 geese and 50 ducks.

We plan to approve the Yankton Sioux 2011-12 hunting seasons upon receipt of their proposal based on the provisions described above.

Public Comments

The Department of the Interior's policy is, whenever possible, to afford the public an opportunity to participate in the rulemaking process. Accordingly, we invite interested persons to submit written comments, suggestions, or recommendations regarding the proposed regulations. Before promulgating final migratory game bird hunting regulations, we will consider all comments we receive. These comments, and any additional information we receive, may lead to final regulations that differ from these proposals.

You may submit your comments and materials concerning this proposed rule by one of the methods listed in the ADDRESSES. We will not accept comments sent by e-mail or fax. We will not consider hand-delivered comments that we do not receive, or mailed comments that are not postmarked, by the date specified in DATES.

We will post all comments in their entirety—including your personal identifying information—on http://www.regulations.gov. Before including your address, phone number, e-mail address, or other personal identifying information in your comment, you should be aware that your entire comment—including your personal identifying information—may be made publicly available at any time. While you can ask us in your comment to withhold your personal identifying information from public review, we cannot guarantee that we will be able to do so.

Comments and materials we receive, as well as supporting documentation we used in preparing this proposed rule, will be available for public inspection on http://www.regulations.gov, or by appointment, during normal business hours, at the U.S. Fish and Wildlife Service, Division of Migratory Bird Management, Room 4107, 4501 North Fairfax Drive, Arlington, VA 22203.

For each series of proposed rulemakings, we will establish specific comment periods. As we previously noted in our April 8, 2011 proposed rule (76 FR 19877), because of the lateness when certain data becomes available, special circumstances limit the amount of time we can allow for public comment for this regulation and so we determine that a longer comment period in this case is impractical. We will consider, but possibly may not respond in detail to, each comment. As in the past, we will summarize all comments we receive during the comment period and respond to them after the closing date in the preambles of any final rules.

Required Determinations

Based on our most current data, we are affirming our required determinations made in the proposed rule; for descriptions of our actions to ensure compliance with the following statutes and Executive Orders, see our April 8, 2011, proposed rule (76 FR 19876):

• National Environmental Policy Act;

• Endangered Species Act;

• Regulatory Flexibility Act;

• Small Business Regulatory Enforcement Fairness Act;

• Paperwork Reduction Act;

• Unfunded Mandates Reform Act;

• Executive Orders 12630, 12866, 12988, 13132, 13175, and 13211.

List of Subjects in 50 CFR Part 20

Exports, Hunting, Imports, Reporting and recordkeeping requirements, Transportation, Wildlife.

Based on the results of migratory game bird studies, and having due consideration for any data or views submitted by interested parties, this proposed rulemaking may result in the adoption of special hunting regulations for migratory birds beginning as early as September 1, 2011, on certain Federal Indian reservations, off-reservation trust lands, and ceded lands. Taking into account both reserved hunting rights and the degree to which tribes have full wildlife management authority, the regulations only for tribal members or for both tribal and nontribal hunters may differ from those established by States in which the reservations, off-reservation trust lands, and ceded lands are located. The regulations will specify open seasons, shooting hours, and bag and possession limits for rails, coot, gallinules, woodcock, common snipe, band-tailed pigeons, mourning doves, white-winged doves, ducks, mergansers, and geese.

The rules that eventually will be promulgated for the 2011-12 hunting season are authorized under the Migratory Bird Treaty Act (MBTA) of July 3, 1918 (40 Stat. 755; 16 U.S.C. 703 et seq.), as amended. The MBTA authorizes and directs the Secretary of the Interior, having due regard for the zones of temperature and for the distribution, abundance, economic value, breeding habits, and times and lines of flight of migratory game birds, to determine when, to what extent, and by what means such birds or any part, nest, or egg thereof may be taken, hunted, captured, killed, possessed, sold, purchased, shipped, carried, exported, or transported.

Dated: August 1, 2011.
Rachel Jacobson,
Acting Assistant Secretary for Fish and Wildlife and Parks.

[FR Doc. 2011-19851 Filed 8-5-11; 8:45 am]

BILLING CODE 4310-55-P